DEPARTMENT OF HOMELAND SECURITY

Coast Guard

46 CFR Part 69

[Docket No. USCG-2011-0522]

RIN 1625-AB74

Tonnage Regulations Amendments

AGENCY: Coast Guard, DHS.

ACTION: Notice of proposed rulemaking.

SUMMARY: The Coast Guard proposes to amend its tonnage regulations by implementing amendments to the tonnage measurement law made by the Coast Guard Authorization Act of 2010. This rulemaking would also codify principal technical interpretations issued by the Coast Guard, and incorporate administrative, non-substantive clarifications of and updates to the tonnage regulations. The Coast Guard believes these changes will lead to a better understanding of regulatory requirements.

DATES: Comments and related material must either be submitted to our online docket via http://www.regulations.gov on or before July 7, 2014 or reach the Docket Management Facility by that date.

ADDRESSES: You may submit comments identified by docket number USCG-2011-0522 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Mr. Marcus Akins, Marine Safety Center, Tonnage Division (MSC-4), Coast Guard; telephone (703) 872-6787, email Marcus.J.Akins@uscg.mil. If you have questions on viewing or submitting material to the docket, call Barbara Hairston, Program Manager, Docket Operations, telephone 202-366-9826.

SUPPLEMENTARY INFORMATION:

Table of Contents for Preamble

I. Public Participation and Request for Comments

A. Submitting Comments

B. Viewing Comments and Documents

C. Privacy Act

D. Public Meeting

II. Abbreviations

III. Background

IV. Discussion of Proposed Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted without change to http://www.regulations.gov and will include any personal information you have provided.

A. Submitting Comments

If you submit a comment, please include the docket number for this rulemaking (USCG-2011-0522), indicate the specific section of this document to which each comment applies, and provide a reason for each suggestion or recommendation. You may submit your comments and material online or by fax, mail, or hand delivery, but please use only one of these means. We recommend that you include your name and a mailing address, an email address, or a phone number in the body of your document so that we can contact you if we have questions regarding your submission.

To submit your comment online, go to http://www.regulations.gov and insert “USCG-2011-0522” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov and insert “USCG-2011-0522” in the “Search” box. Click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We plan to hold one public meeting on this NPRM. We will publish a notice with the specific date and location of the meeting in the Federal Register as soon as we know this information. Individuals interested in receiving this notice personally should submit their contact information to “msc@uscg.mil” with “Tonnage Public Meeting” in the subject line. We plan to record this meeting using an audio-digital recorder and make that audio recording available through a link in our online docket. We will also provide a written summary of the meeting and comments and will place that summary in the docket.

For information on facilities or services for individuals with disabilities or to request special assistance at the public meeting, contact Mr. Marcus Akins at the telephone number or email address indicated under the FOR FURTHER INFORMATION CONTACT section of this notice.

II. Abbreviations

BLS Bureau of Labor Statistics

CFR Code of Federal Regulations

FR Federal Register

GRT Gross Register Tons

GT ITC Gross Tonnage Measurement under the Convention Measurement System

IMO International Maritime Organization

ITC (1969) International Tonnage Certificate (1969)

MSC Marine Safety Center

MSSC Marine Safety and Security Council

MTN Marine Safety Center Technical Note

NAICS North American Industry Classification System

NEPA National Environmental Policy Act 1969 (42 U.S.C. 432-4370f)

NPRM Notice of Proposed Rulemaking

NT ITC Net tonnage under the Convention Measurement System

NVIC Navigation and Vessel Inspection Circular

§ Section symbol

U.S.C. United States Code

III. Background

The tonnage measurement law, codified in Title 46, United States Code, Subtitle II, Part J, “Measurement of Vessels,” provides for assignment of gross and net tonnages to any vessel to which a law of the United States applies based on the vessel's tonnage. These parameters reflect a vessel's size and useful capacity, respectively, and are used for a variety of purposes, including the application of vessel safety, security, and environmental regulations, and the assessment of taxes and fees.

Depending on the vessel's size, voyage type, and other considerations, vessels are measured under the newer internationally-based Convention Measurement System, or the older domestic Regulatory Measurement System, of which there are three sub-systems: The Standard, Dual, and Simplified systems. Because variations between the two overarching systems may yield substantively different tonnages, the law, as amended in 1986, provides for owners of vessels measured under the Convention Measurement System to be additionally measured under the Regulatory Measurement System, and to use Regulatory Measurement System tonnage when applying certain tonnage-based requirements of older laws.

The Coast Guard administers the implementing regulations for the tonnage measurement law, which are found in Title 46, Code of Federal Regulations, Part 69, “Measurement of Vessels”, and referred to as the tonnage regulations. Other than several changes of an administrative nature, the Coast Guard has not amended these regulations since an extensive rewrite in 1989 to reflect changes made by the 1986 amendments to the tonnage measurement law.

Assignment and use of tonnage under four different measurement systems presents some unique challenges, especially with regard to interpreting requirements on vessel eligibility for measurement under these systems, and applying domestic and international tonnage-based laws, particularly in situations where two sets of tonnages may be assigned to a vessel. To provide clarity and address the complexities of tonnage applicability requirements under the 1986 amended law, in 1993 we issued Navigation and Vessel Inspection Circular (NVIC) 11-93, “Application of Tonnage Measurement Systems to U.S. Flag Vessels.” This NVIC has been updated three times and provides current Coast Guard interpretations related to vessel eligibility for measurement under the various systems, and how the assigned tonnages may be used.

Additionally, to keep pace with rapidly evolving vessel designs, in 1999 the Coast Guard issued an additional tonnage interpretative policy document: Marine Safety Center Technical Note (MTN) 01-99, “Tonnage Technical Policy.” That document provides interpretations of the detailed rules of the tonnage regulations for measuring vessels and calculating tonnages, and was intended primarily for use by organizations that perform tonnage measurement work on our behalf. However, recognizing the importance of these interpretations to vessel designers, builders, owners, and others interested in the tonnage rules, we notified the public via the Federal Register when we updated MTN 01-99, starting with Change 6 (68 FR 71118 dated December 22, 2003).

The Coast Guard Authorization Act of 2010 (Pub. L. 111-281, Title III, § 303, Oct. 15, 2010, 124 Stat. 2924) (the 2010 Coast Guard Authorization Act) included amendments which updated, clarified, and eliminated inconsistencies in the tonnage measurement law, and precluded the owners of certain foreign flag vessels that engage solely on U.S. domestic voyages from obtaining a future measurement under the Regulatory Measurement System. Those amendments require related changes to the tonnage regulations. In addition, although NVIC 11-93 and MTN 01-99, as amended, have proven useful in supplementing the requirements of the tonnage regulations, we consider that some of the associated interpretations are better suited for codification, and are appropriate for inclusion in the tonnage regulations.

We developed the proposed rule to implement the 2010 amendments to the tonnage measurement law, codify principal policy interpretations, and incorporate additional clarifications and other administrative updates to the tonnage regulations. In identifying interpretations for codification, we took into consideration the frequency of their use, and potential impact on vessel designs or operations. We also balanced the benefit of increased clarity against the loss of flexibility to further develop and apply interpretations of a secondary nature to evolving ship designs, and to apply superseded interpretations in special circumstances under the grandfathering provisions of MTN 01-99, as amended. We expect the public to benefit from the proposed rule through increased visibility of principal policy interpretations applied during tonnage measurement. We also expect the public to benefit from the elimination of inconsistencies and incorporation of clarifications or updates that are either consistent with longstanding Coast Guard policy or reflective of current Coast Guard practice.

IV. Discussion of Proposed Rule

In the paragraphs below, we discuss the specific proposed amendments to the tonnage regulations, along with the reasons for implementing them. We organized the discussion according to the subpart and section number in which each change would appear in the text of 46 CFR part 69. Additional information about the need for and impact of these proposed amendments is provided in Section V.A., “Regulatory Planning and Review,” of this rulemaking.

Subpart A—General

§ 69.1 Purpose.

We propose amending this section to align it with Sections 303(c) and (f) of the 2010 Coast Guard Authorization Act, which eliminates disparate treatment of documented and undocumented U.S. flag vessels, and to reflect the use of tonnage for environmental and security purposes. In addition, we propose relocating the descriptions of each measurement system to the corresponding definitions in § 69.9.

§ 69.3 Applicability.

We propose amending this section to align it with the tonnage measurement law, Title 46 U.S.C. 14104, which requires the measurement of all U.S. and foreign flag vessels, regardless of size, for which the application of an international agreement or other law of the United States depends on the vessel's tonnage. This proposed change expands the scope of the regulations to apply to foreign flag vessels, as well as U.S. flag vessels, and removes a 5 net ton minimum size restriction for measurement of U.S. flag vessels.

§ 69.5 Vessels required or eligible to be measured.

We propose deleting this section, as the proposed changes to § 69.3 address which vessels are required or are eligible to be measured.

§ 69.7 Vessels transiting the Panama and Suez Canals.

We propose amending this section to delete the requirement that vessels transiting the Panama Canal be measured under the Panama Canal tonnage measurement regulations formerly located in 35 CFR part 135. Due to the transfer of the Panama Canal to the Republic of Panama, the United States government no longer has responsibility for Panama Canal tonnage assignments. We also propose deletion of the requirement that vessels be measured under specific Suez Canal measurement rules, and all other references to these rules, as they are similarly not the responsibility of the United States government and are subject to change by the Arab Republic of Egypt. Our proposed new language alerts vessel owners to potential special tonnage certificate requirements when transiting the Panama and Suez Canals and states that measurement organizations authorized by the respective canal authorities may issue these special tonnage certificates.

§ 69.9 Definitions.

We propose amending this section to reflect new terms and concepts introduced in this rule, and to clarify existing definitions.

We propose defining the new terms “deck cargo,” “gross register tonnage,” “gross tonnage ITC,” “net register tons,” “non-self-propelled vessel,” “Regulatory Measurement System,” “remeasurement,” and “self-propelled vessel” based on definitions for similar terms in NVIC 11-93, as amended. We propose defining the new term “portable enclosed space” based on the definition of the term “temporary deck equipment” in the NVIC, but renaming it for consistency with common industry usage. We propose defining the new term “U.S. flag vessel,” which replaces the term “vessel of United States registry or nationality or operated under the authority of the United States” that is used in the tonnage measurement law, and referencing “U.S. flag vessel” in the definition for the new term “foreign flag vessel.” We propose defining the new term “register ton” based on the definition of this term in the tonnage regulations as they existed prior to 1989. We propose defining the new term “authorized measurement organization” based on its usage in § 69.15. We propose defining the new term “tonnage threshold” based on common industry usage.

We propose revising the definitions of the terms “Convention Measurement System,” “Dual Measurement System,” “Simplified Measurement System,” and “Standard Measurement System” to provide a more detailed description of each system, and to include the word “Regulatory” for clarity. We propose revising the definition of “Commandant” to update the mailing address for the Marine Safety Center. We propose revising the definition of the term “National Vessel Documentation Center” to remove unnecessary reference to the organization's address. We propose revising the definition of the term “overall length” to include reference to the vessel's hull, consistent with the length definition of 46 U.S.C. 14522 and corresponding definitions in MTN 01-99, as amended. We propose revising the definition of the term “tonnage” to provide a more comprehensive and accurate description of this volumetric parameter.

We propose changing the term “vessel engaged on a foreign voyage” to “vessel that engages on a foreign voyage” consistent with language established by Section 303(c) of the 2010 Coast Guard Authorization Act. We propose deleting the definitions for “gross tonnage” and “net tonnage” and relocating relevant information to the definition of “tonnage” to help avoid confusion over the use of these terms in the context of tonnage assignments under the Convention Measurement System.

§ 69.11 Determining the measurement system or systems for a particular vessel.

We propose amending this section to align with Sections 303(c) and (f) of the 2010 Coast Guard Authorization Act. These amendments provide for identical tonnage measurement treatment of documented and undocumented U.S. flag vessels and preclude foreign flag vessels greater than 79 feet in length from being measured under the Regulatory Measurement System. This proposed change is not retroactive. We also propose relocating the language addressing how tonnage thresholds are applied to the newly proposed § 69.20.

§ 69.13 Applying the provisions of a measurement system.

We propose amending this section to require Coast Guard interpretations be observed when vessels are measured, consistent with existing written agreements between the measurement organizations and the Coast Guard and requirements of MTN 01-99, “Tonnage Technical Policy,” and MTN 01-98, “Tonnage Administrative Policy,” as amended. We also propose amendments to identify that Coast Guard interpretations are published by, and may be obtained from, the Coast Guard Marine Safety Center, in order to facilitate access to interpretive documents such as MTN 01-98 and 01-99, as amended. Additionally, we propose amendments that would allow grandfathering of superseded tonnage measurement rules under this part. These amendments are based on similar grandfathering provisions for interpretations of the tonnage measurement rules in MTN 01-99, as amended, except that grandfathering is not extended to an identical sister vessel, consistent with grandfathering approaches used in applying other marine safety regulations. The grandfathering provisions take into account the effective date of the regulation and the contract date for construction of, or modification to, the vessel. These provisions allow for grandfathering of previous interpretations only if the codified conditions for grandfathering are met.

§ 69.15 Authorized measurement organizations.

We propose amending this section for consistency with the proposed changes in § 69.11, which would establish new nomenclature for each measurement system. Additionally, we propose changes to this section to establish consistent terminology regarding the Coast Guard measurement of vessels of war and vessels of any type being measured under the Simplified Regulatory Measurement System. We also propose changes to delete reference to obtaining application forms from the National Vessel Documentation Center, consistent with the proposed changes in § 69.205 regarding measurement of undocumented vessels.

§ 69.17 Application for measurement services.

We propose amending this section to state specifically that a vessel owner is responsible for applying for vessel measurement or remeasurement. We also propose omitting reference to boiler installation as indicative of the stage of vessel construction, because of the decreasing use of steam as a means of propulsion.

§ 69.19 Remeasurement and adjustment of tonnage.

We propose amending this section to clarify that remeasurement may be optionally performed to reflect the latest measurement rules, or may be required as a result of a change in the use of spaces or vessel service, for example, as might occur if a water ballast justification approval was in effect under § 69.117(f)(4). This latter requirement is consistent with current practice as guided by NVIC 11-93 CH-2, MTN 01-98 CH 3 and MTN 01-98 CH 9. In addition, we propose a change to delete an outdated and unnecessary reference to the documentation regulations.

§ 69.20 Applying tonnage thresholds.

We propose adding this new section to provide comprehensive requirements within the tonnage measurement regulations on how tonnage thresholds in international agreements and Federal statutes and regulations are to be applied, including alternate tonnage thresholds. These requirements are based on provisions of the tonnage measurement law and the Convention, and are consistent with the interpretations of NVIC 11-93, as amended. We intend for this section, along with accompanying definitions proposed for § 69.9, to help provide a suitable framework for development of future tonnage-based regulations, allowing tonnage thresholds to be specified in an unambiguous manner.

§ 69.25 Penalties.

We propose amending this section to reflect implementation of the Federal Civil Penalties Inflation Adjustment Act, as amended, which increased the civil penalty amounts for a general violation and a false statement to $30,000 (74 FR 68150 dated December 23, 2009).

§ 69.27 Delegation of authority to measure vessels.

We propose amending this section to delete an outdated reference to 49 CFR 1.46 and to make this section consistent with the measurement system nomenclature established in § 69.11.

§ 69.28 Acceptance of measurement by a foreign country.

We propose adding this new section to implement the provisions of Section 303(i) of the 2010 Coast Guard Authorization Act for accepting tonnage assignments for foreign flag vessels measured under laws and regulations similar to those in 46 U.S.C. 14501. This section would also incorporate the provisions of the tonnage measurement law as amended in 1986 for acceptance of tonnage assignments for foreign flag vessels measured under laws similar to those in 46 U.S.C. 14306.

Subpart B—Convention Measurement System

§ 69.53 Definitions.

We propose defining the new term “boundary bulkhead” based on the definition in MTN 01-99, as amended. We also propose deletion of the terms “gross tonnage” and “net tonnage” from this section for the reasons described in the discussion of the proposed amendments to § 69.9.

§ 69.55 Application for measurement services.

We propose amending this section to specify “delivery date” instead of the less-specific “build date.”

§ 69.57 Gross tonnage ITC.

We propose to amend this section to reflect new terminology proposed in § 69.9, which describes tonnage measured under the Convention as gross tonnage ITC (GT ITC).

§ 69.59 Enclosed spaces.

We propose to amend this section to incorporate the concept of temporary deck equipment—now generalized to “portable enclosed space”—found in NVIC 11-93, as amended, which states that “any enclosed space of a semi-permanent nature located on the weather decks of a vessel and which cannot be considered as deck cargo” should be considered enclosed volume to be included in tonnage.

§ 69.61 Excluded spaces.

We propose incorporating interpretations from MTN 01-99, as amended, providing for treatment of a qualifying space “open to the sea” and below the upper deck as an excluded space.

§ 69.63 Net tonnage ITC.

We propose revising this section to reflect new terminology proposed in § 69.9, which describes tonnage measured under the Convention as GT ITC and net tonnage ITC (NT ITC).

§ 69.65 Calculation of volumes.

We propose revising this section to delete the reference to specific volume calculation methods, including Simpson's first rule of integration, because these methods can yield inaccurate results if misapplied. Also, we propose revising this section to delete the discussion regarding cargo space insulation as this is addressed elsewhere in Subpart B.

§ 69.69 Tonnage Certificates.

We propose expanding the text of this section to more completely reflect the requirements of the Convention. Specifically, we propose adding language to preclude a vessel undergoing an alteration resulting in a decrease in net tonnage as measured under the Convention from being reissued a new International Tonnage Certificate (ITC (1969)) reflecting the lower net tonnage within 12 months following the date of the original measurement and allowing a 3-month grace period after flag transfer. We also propose expanding the text to reflect tonnage certificate practices established in MTN 01-98, as amended, and Section 303(e) of the 2010 Coast Guard Authorization Act. Specifically, we propose to add language requiring the measurement organization to issue a U.S. Tonnage Certificate as evidence of measurement under the Convention Measurement System if an ITC (1969) is not issued, and clarifying that the ITC (1969) is delivered to the owner or master of the vessel.

§ 69.71 Change of net tonnage.

We propose replacing “Coast Guard” with “Commandant” to identify the specific Coast Guard office which determines the magnitude of an alteration of a major character.

§ 69.73 Treatment of unique or otherwise novel type vessels.

We propose revising the title of this section to make it explicit that it addresses “novel” vessel types, and to clarify that submission of plans and sketches is not required in all cases.

§ 69.75 Figures.

We propose updating the existing figures to resolve minor labeling inconsistencies, and for visual clarity.

Subpart C—Standard Regulatory Measurement System

§ 69.101 Purpose.

We propose amending this section to reflect the newly proposed title of Subpart C.

§ 69.103 Definitions.

We propose amending this section to reflect new terms and concepts introduced in Subpart C of this rule.

We propose adding “line of the normal frames” to describe the imaginary horizontal line that connects the inboard faces of the smallest normal frames. We propose adding “tonnage station” to describe the longitudinal location of each transverse section corresponding to where depth and breadth measurements are taken. We propose adding “zone of influence method” to describe a method of determining volumes of under-deck spaces. We propose amending the terms “gross tonnage” and “net tonnage” to read “gross register tonnage” and “net register tonnage” to reflect newly proposed terminology in § 69.9 (“gross register tonnage” and “net register tonnage”) used to describe tonnages determined under the Standard system. We propose amending the term “superstructure” to reflect the newly proposed term “portable enclosed spaces.” We propose amending the term “uppermost complete deck” to reflect that specific requirements have been established in the newly proposed § 69.108.

We also propose incorporating Standard system terms published in MTN 01-99, as amended. These terms include: “line of the ordinary frames,” “normal frame,” “ordinary frame,” “tonnage interval,” and “water ballast double bottom.” We propose adding “line of the ordinary frames” to describe the line of intersection of: 1) The imaginary surface running longitudinally that is tangent to the inboard faces of the ordinary frames (or the inside of the vessel's skin, if there are no ordinary frames); and 2) the imaginary plane running transversely through the vessel at the tonnage station of interest. We propose adding “normal frame” to describe a frame, regardless of size, used to stiffen a structure, “ordinary frame” to describe the primary frames used for strengthening the hull, and “tonnage interval” to describe the longitudinal distance between transverse sections of a vessel's under-deck or superstructure when divided into an even number of equal parts for purposes of volume integration. We propose adding “water ballast double bottom” to describe a space at the bottom of a vessel between the inner and outer bottom plating that is used solely for water ballast.

§ 69.105 Application for measurement services.

We propose amending this section to be consistent with the proposed amendments to § 69.55, which specify “delivery date” instead of the less specific “build date.”

§ 69.107 Gross and net register tonnages.

We propose revising the text of this section to reflect newly proposed terminology in § 69.9 (“gross register tonnage” and “net register tonnage”) used to describe tonnages determined under the Standard system. We also propose adding language to reflect that the U.S. Tonnage Certificate issued under § 69.15(d) indicates measurement for both the Convention and Regulatory Measurement Systems, as applicable, and need not be carried aboard, consistent with Section 303(e) of the 2010 Coast Guard Authorization Act and MTN 01-98, as amended.

§ 69.108 Uppermost complete deck.

We propose this new section to incorporate comprehensive requirements related to the “uppermost complete deck” as interpreted by MTN 01-99, as amended. We propose to restrict the uppermost deck from extending above any space exempted as open space, extending below the waterline, or resting directly on consecutive or alternating ordinary bottom frames or floors for over half of the tonnage length. Further, we propose to identify deck discontinuities whose presence would disqualify a deck as being the uppermost complete deck, such as certain through-deck openings, middle line openings, deck recesses, and notches.

§ 69.109 Under-deck tonnage.

We propose revising the text of this section to incorporate the following clarifications and principal interpretations of MTN 01-99, as amended.

Identifying the tonnage deck. We propose describing the decks in § 69.109(c) as “enumerated” decks to clarify that a disqualified deck cannot be considered when determining the tonnage deck.

Enumerating the decks to identify the second deck from the keel. We propose revising § 69.109(d) to clarify how enumerated decks are determined using the term “uppermost complete deck” as proposed in this rulemaking. Our intent with this revision is to provide details on specific deck discontinuities that may disqualify a deck from being enumerated.

Identifying the line of the tonnage deck. We propose amending § 69.109(e)(2) to delete the phrase “at different levels from stem to stern” and replace it with “is stepped” to utilize a more commonly used term for a deck with multiple heights. We also propose amending § 69.109(e)(2) to institute minimum breadth and length criteria for steps used in establishing the line of the tonnage deck.

Tonnage length. We propose modifying § 69.109(f)(1) and (2) to reflect that the frames evaluated in determining the tonnage length should be the “ordinary frames.” Also, we propose deleting the sentence “When a headblock extends inboard past the face of the end side frames or when the headblock plates are excessive in length, the tonnage length terminates at the extreme end of the vessel less a distance equal to the thickness of an ordinary side frame and shell plating.” in paragraph (f)(2). This sentence becomes unnecessary as the proposed changes to paragraphs (f)(1) and (2) require that ordinary frames determine the tonnage length and not the headblock. We propose to further revise the tonnage length language of paragraph (f) by adding paragraph (f)(4), which provides for a maximum reduction in tonnage length of 8½ feet from the inboard surface of the skin of the hull at the bow and stern, and requires the after terminus of the tonnage length to be aft of the rudderstock for vessels fitted with one.

Division of vessel into transverse sections. With the establishment of the proposed term “tonnage station,” we propose amending § 69.109(g)(2) to reflect that the vessel should be divided into sequentially numbered “tonnage stations” beginning at the stem.

Depths of transverse sections. We propose amending § 69.109(h) by replacing the terms “double bottom” and “cellular double bottom” with “water ballast double bottom” to reflect that depths of transverse sections are measured to only those double bottoms used solely for ballast.

Breadths of transverse sections. We propose amending § 69.109(i) by replacing the terms “double bottom” and “cellular double bottom” with “water ballast double bottom” to reflect that depths of transverse sections are measured only to those double bottoms used solely for ballast.

Steps in double bottom. We propose amending § 69.109(m) by replacing the term “double bottom” with “water ballast double bottom” to reflect that measurement in parts only applies only to those vessels fitted with double bottoms used solely for ballast.

Spaces open to the sea. We propose revising § 69.109(n) to delete the existing language regarding outside shaft tunnel exclusions and to insert new language regarding spaces open to the sea. We propose deleting language on outside shaft tunnel exclusions because outside shaft tunnels are no longer commonly used in vessel construction, and because the approach of subtracting out external volumes yields inconsistent results depending on the depths of associated ordinary frames. We propose the new language on spaces open to the sea to provide direction on the measurement treatment of any under-deck space that has been determined to be open to the sea.

Open vessels. We propose amending § 69.109(o) to incorporate the term “uppermost complete deck.” Our intent here is to simplify the definition of an open vessel with the use of this term.

General requirements on ordinary frames. We propose adding § 69.109(p) to provide requirements on the measurement treatment of ordinary frames in the under-deck, including construction, frame spacing, different sized frames, frame openings, and asymmetrical framing. The use of deep ordinary frames to reduce the sectional area of under-deck tonnage section, informally known as “deep framing,” has become common in vessel construction, and clarity on this matter is important to ensure tonnage assignments consistent with the principles of the underlying statute.

§ 69.111 Between-deck tonnage.

In § 69.111(b)(2), we propose deleting the phrase “at different levels from stem to stern” and replacing it with the more commonly used phrase “is stepped” as proposed in § 69.109. We also propose incorporating the interpretations of MTN 01-99, as amended, to codify a minimum size of a longitudinal step being used as the basis for establishing the line of the uppermost complete deck. We propose amending § 69.111(c) to replace the phrase “face of the normal side frames” with the phrase “line of the normal frames” as proposed in § 69.103.

§ 69.113 Superstructure tonnage.

We propose revising this section to incorporate the concept of temporary deck equipment—now generalized to “portable enclosed space”—as enclosed volume to be included in tonnage, from NVIC 11-93, as amended. We also propose amending § 69.113(b)(1), (b)(3), and (f) to clarify that measurements are to be taken to the newly proposed term “line of the normal frames.” Lastly, we propose amending § 69.113(a) to define superstructure tonnage as the tonnage of all superstructure spaces.

§ 69.115 Excess hatchway tonnage.

We propose revising § 69.115(c) to reflect newly proposed terminology in § 69.9 (“tonnage” and “gross register tonnage”) used to describe tonnages determined under the Standard system.

§ 69.117 Spaces exempt from inclusion in gross tonnage.

We propose revising § 69.117 for clarity and consistency with newly proposed terminology in § 69.9 (“tonnage” and “gross register tonnage”) used to describe tonnages determined under the Standard system. Additionally, we propose revising the text of this section to incorporate the following principal interpretations of MTN 01-99, as amended.

Passenger space. We propose amending the definition of passenger space to preclude passenger support spaces and spaces used by both passengers and crew from being exempted as a passenger space. Moreover, the proposed amendments include the minimum height above the uppermost complete deck for exemptible passenger spaces. The proposed amendments also remove the prohibition of exempting a passenger space as an open space when it has berthing accommodations.

Open structures. We propose revising § 69.117(d) to incorporate additional requirements derived from the interpretations of MTN 01-99, as amended, for the treatment of structures considered open to the weather. We propose amending § 69.117(d)(1) to provide additional requirements for open structure exemptions. The amendments address open space exemptions for structures, prohibiting the progression of open space vertically between structures, and allowing a space outside a structure's boundary bulkhead to be considered open to the weather if it is eligible to be treated as an excluded space under § 69.61.

We propose amending § 69.117(d)(2) to provide additional criteria for bulkheads in open structures. The additional criteria include: Precluding an end bulkhead from having a permanent obstruction within 2½ feet of an opening, requiring it to be fitted with a deck or platform that is a minimum of 2½ feet wide, and requiring circulation of open space between compartments via openings or series of openings to progress open space to two separate interior compartments.

We propose amending § 69.117(d)(3) to provide additional requirements for considering interior compartments to be open to the weather. These requirements would preclude open space from progressing from a space that is considered open under proposed § 69.117(d)(1)(iii) unless the space may also be considered open to the weather under another provision of § 69.117.

We propose revising paragraphs (d)(5) and (d)(6) of § 69.117 to reflect that cover plates must be fitted against the weather side of a bulkhead in order for an opening that is temporarily closed by cover plates to be considered open to the weather.

We propose revising § 69.117(d)(7) to insert the phrase “notwithstanding the opening size requirements of paragraph (d)(2) of this section” in the beginning of the first sentence. Our intent with this revision is to emphasize that an opening considered open to the weather under § 69.117(d)(7) need not also meet the size requirements of § 69.117(d)(2). To incorporate the concept of opposite side openings, we propose adding § 69.117(d)(8). This concept is intended to allow structures to be considered open if both sides have openings that are not separated by a bulkhead and the openings meet certain size criteria.

Open space below a shelter deck. We propose amending § 69.117(e) to reflect newly proposed terminology in § 69.9 (“tonnage” and “gross register tonnage”) used to describe tonnages determined under the Standard system and to replace the phrase “next lower deck” with the phrase “uppermost complete deck” for clarity. In addition, to prevent closure of a middle line opening used to exempt space below a shelter deck, we propose adding language precluding battening, caulking, seals, or gaskets of any material from being used in association with a middle line opening cover.

Water ballast spaces. We propose amending § 69.117(f) to reflect newly proposed terminology in § 69.9 (“tonnage” and “gross register tonnage”) used to describe tonnages determined under the Standard system. We also propose deleting § 69.117(f)(4)(iii) because it is no longer necessary to use a form similar to Coast Guard Stability Test Form CG-993-9 to provide the required ballast water justification calculations. This form, given as an example in the current regulations, is no longer an active stability test form, and current stability software programs are capable of providing comprehensive calculations in a variety of acceptable formats.

Zones of influence. We propose amending § 69.117(g) to incorporate the interpretation of MTN 01-99, as amended, requiring the use of the zone of influence method for calculating water ballast tank volumes under certain circumstances. This method corrects for the influence that a four multiplier has when applying Simpson's first rule to geometries that exhibit abrupt sectional area changes. Applying this rule absent such a correction may result in an exempted volume in a deep-framed portion of the hull that exceeds the volume of the space included in tonnage.

§ 69.119 Spaces deducted from gross register tonnage.

We propose revising § 69.119 to reflect newly proposed terminology in § 69.9 (“tonnage” and “net register tonnage”) used to describe tonnages determined under the Standard system.

§ 69.121 Engine Room Deduction.

We propose revising § 69.121 to reflect newly proposed terminology in § 69.9 (“gross register tonnage” and “net register tonnage”) used to describe tonnages determined under the Standard system.

§ 69.123 Figures.

We propose updating the existing figures to resolve minor labeling inconsistencies, and for visual clarity.

Subpart D—Regulatory Measurement System—Dual Measurement

§ 69.151 Purpose.

We propose revising § 69.151 to reflect newly proposed terminology in § 69.9 (“tonnage” and “net register tonnage”) used to describe tonnages determined under the Standard system.

§ 69.153 Application of other laws.

We propose revising the text of this section to reflect newly proposed terminology in § 69.9 (“gross register tonnage”) used to describe tonnages determined under the Dual system.

§ 69.155 Measurement requirements.

We propose revising the text of this section to delete references to the “Standard Measurement System” and “Dual Measurement System”, leaving only references to their respective subparts. This change is needed to avoid a conflict with proposed revised terminology in § 69.9 for related terms (“Standard Regulatory Measurement System” and “Dual Regulatory Measurement System”).

§ 69.157 Definitions.

We propose revising § 69.157 to reflect newly proposed terminology in § 69.9 (“tonnage” and “gross register tonnage”) used to describe tonnages determined under the Dual system.

§ 69.159 Application for measurement services.

We propose revising the text of this section to delete the reference to the “Standard Measurement System”, leaving only the reference to a specific section in subpart C. This change is needed to avoid a conflict with proposed revised terminology in § 69.9 for the related term (“Standard Regulatory Measurement System”).

§ 69.161 Gross and net register tonnages.

We propose revising the text of this section to reflect newly proposed terminology in § 69.9 (“gross register tonnage” and “net register tonnage”) used to describe tonnages measured under the Dual system. We also propose adding language to reflect that the U.S. Tonnage Certificate issued under § 69.15(d) indicates measurement for both the Convention and Regulatory Measurement Systems, as applicable, and need not be carried aboard, consistent with Section 303(e) of the 2010 Coast Guard Authorization Act and MTN 01-98, as amended.

§ 69.163 Under-deck tonnage.

We propose revising the text of this section to delete the reference to the “Dual Measurement System”, leaving only a reference to a subpart. This change is needed to avoid a conflict with proposed revised terminology in § 69.9 for the related term (“Dual Regulatory Measurement System”).

§ 69.165 Between-deck tonnage.

We propose revising the text of this section to delete the reference to the “Dual Measurement System”, leaving only a reference to a subpart. This change is needed to avoid a conflict with proposed revised terminology in § 69.9 for the related term (“Dual Regulatory Measurement System”).

§ 69.167 Superstructure tonnage.

We propose revising the text of this section to delete the reference to the “Dual Measurement System”, leaving only a reference to a subpart. This change is needed to avoid a conflict with proposed revised terminology in § 69.9 for the related term (“Dual Regulatory Measurement System”).

§ 69.169 Spaces exempt from inclusion in tonnage.

We propose revising the text of this section to delete the word “gross”, consistent with the proposed revised terminology in § 69.9 (“tonnage”).

§ 69.173 Tonnage assignments for vessels with only one deck.

We propose revising § 69.173 to reflect newly proposed terminology in § 69.9 (“gross register tonnage” and “net register tonnage”) used to describe tonnages determined under the Dual system.

§ 69.175 Tonnage assignments for vessels with a second deck.

We propose revising § 69.175 to reflect newly proposed terminology in § 69.9 (“gross register tonnage” and “net register tonnage”) used to describe tonnages determined under the Dual system. Additionally, we propose revising § 69.175 by incorporating language from MTN 01-99, as amended, into paragraph (a) to clarify which gross and net tonnage should be used when more than one gross and one net register tonnage is assigned, and into paragraph (c) by requiring a load line to be assigned at a level below the line of the second deck.

§ 69.177 Markings.

We propose revising § 69.177 to reflect newly proposed terminology in § 69.9 (“gross register tonnage” and “net register tonnage”) used to describe tonnages determined under the Dual system. Additionally, we propose revising paragraph § 69.177(d) to add the MTN 01-99, as amended, exception which allows the line of the second deck to be marked on the side of the vessel if the second deck is the actual freeboard deck for purposes of load line assignment.

§ 69.181 Locating the line of the second deck.

We propose updating the existing examples for visual clarity.

§ 69.183 Figures.

We propose updating the existing figures to resolve minor labeling inconsistencies, and for visual clarity.

Subpart E—Simplified Regulatory Measurement System

§ 69.201 Purpose.

We propose amending this section to reflect the newly proposed title of Subpart E.

§ 69.205 Application for measurement services.

We propose amending this section to address vessels measured under the Simplified system that are not documented as vessels of the United States. The proposed text clarifies that a completed application for simplified measurement serves as evidence of measurement under the Simplified system. As accepted under current Coast Guard practice, vessel owners would not have to submit this application to the Coast Guard. For consistency with §§ 69.55 and 69.105, we also propose amending this section to list the vessel information currently required to be provided by the owner when completing the Application for Simplified Measurement (form CG-5397). We propose deleting reference to a specific section of the Builders Certificate and First Transfer of Title (form CG-1261). This would enable form CG-1261 to be changed without causing a need to revise the tonnage regulations.

§ 69.207 Measurements.

We propose relaxing the tolerance on measurements consistent with current practice and the instructions on the Application for Simplified Measurement (form CG-5397).

§ 69.209 Gross and net register tonnages.

We propose revising § 69.209 to reflect newly proposed terminology in § 69.9 (“gross register tonnage” and “net register tonnage”) used to describe tonnages determined under the Standard system. Additionally, we propose revising this section to identify that a vessel's Certificate of Documentation serves as evidence of measurement under the Simplified system, as described in NVIC 11-93, as amended.

§ 69.211 Treatment of unique or otherwise novel type vessels.

We propose adding this section to provide the public with the Coast Guard office to contact for questions on a vessel for which the simplified measurement rules may not readily be applied.

V. Regulatory Analyses

The Coast Guard developed this rule after considering numerous statutes and executive orders related to rulemaking. Below we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This proposed rule is not a significant regulatory action under section 3(f) of Executive Order 12866, Regulatory Planning and Review, as supplemented by Executive Order 13563, Improving Regulation and Regulatory Review, and does not require an assessment of potential costs and benefits under section 6(a)(3) of that Order. The Office of Management and Budget (OMB) has not reviewed it under that Order. Nonetheless, we developed an analysis of the costs and benefits of the proposed rule to ascertain its probable impacts on industry. We consider all estimates and analysis in this Regulatory Analysis to be draft and subject to change in consideration of public comments.

A draft Regulatory Assessment follows:

The primary objective of the proposed rule is to implement amendments to the tonnage measurement law made by the 2010 Coast Guard Authorization Act. One amendment precludes the owner of a foreign flag vessel of 79 feet or more in length that engages solely on U.S. domestic voyages from obtaining a future measurement under the Regulatory Measurement System, with an exception allowed for a Canadian flag vessel operating solely on the Great Lakes. The remaining amendments eliminate inconsistencies and incorporate clarifications or updates that are either consistent with longstanding Coast Guard policy or reflective of current Coast Guard practice.

In addition, the Coast Guard seeks to facilitate understanding of, and compliance with, existing tonnage measurement regulations by codifying principal technical interpretations that have been issued by the Coast Guard to keep pace with developments in vessel designs. These interpretations have been included in Coast Guard policy documents made available to the public via Coast Guard Web sites, and are used by authorized measurement organizations that perform tonnage work on the Coast Guard's behalf. These codifications have been described in the section “Discussion of Proposed Rule”.

To meet these objectives, the proposed rule would update the tonnage regulations to reflect changes mandated by the 2010 Coast Guard Authorization Act and codify principal interpretations from Coast Guard policy documents. The proposed rule would also incorporate clarifications of, and updates to, the tonnage regulations that are of an administrative and non-substantive nature.

Table 1 provides a summary of the proposed rule's costs and benefits.

Table 1—Summary of the Proposed Rule's Impacts
Category | Summary
Applicability | U.S. and foreign flag vessels to which a law of the United States applies based on vessel tonnage.
Affected Population | Vessels that will be initially measured or remeasured under the tonnage regulations, estimated at 10,000 vessels per year.
Cost Impacts | No additional costs as changes are consistent with current practice or policy.
Non-quantified Benefits | Adds flexibility to use foreign flag tonnages. Clarifies tonnage measurement requirements. Facilitates understanding of regulations, leading to more effective and efficient tonnage certifications.

Affected Population

The tonnage regulations, as amended by the proposed rule, apply to all U.S. and foreign flag vessels to which the application of a law of the United States depends on the vessel's tonnage. Once assigned initially, tonnages remain valid until a vessel changes flag, or undergoes a change that substantially affects its tonnage.

Because none of the proposed changes are retroactive, the population potentially affected by this rulemaking is limited to vessels which will be measured in the future, including those remeasured following alterations, modifications, or other changes substantially affecting their tonnage. The Coast Guard estimates this population to be approximately 10,000 vessels each year, based on the 8,615 simplified measurement applications and 386 formal measurement applications submitted annually, and our estimate of approximately 1,000 additional vessels that are measured annually without the submission of a measurement application.¹

¹ Refer to Collection of Information 1625-0022 for more comprehensive information on measurement application submissions. The Coast Guard does not collect information on measurement of vessels for which measurement applications are not submitted, but estimates that on the order of 1,000 such vessels are measured per year based on the number of inquiries received by the Marine Safety Center from the public and Coast Guard field units.

Cost Impacts

Table 2 details 112 changes to the tonnage regulations in the proposed rule, with an assessment of the cost impacts of each change. A summary follows:

• The single change to implement the statutory amendment that would preclude certain foreign flag vessels of 79 ft or more in length from being measured under the Regulatory Measurement System could potentially prevent operation of a future vessel in a similar manner to that of currently operating vessels. No such vessels have been brought into service within the last 10 years. Further, other options to operate similar vessels (e.g., under U.S. flag) are available. Thus, no cost impact from this proposed change is expected.

• The six remaining changes needed for statutory alignment are consistent with current Coast Guard interpretations or industry practice, and would not result in any additional cost as described in the following table.

• The 26 changes related to codification of principal Coast Guard technical interpretations would result in no additional cost, because the interpretations have been used for tonnage work for multiple years.

• The 79 changes labeled “Administrative” are of non-substantive nature and merely provide clarity and would not result in any additional cost.

Overall, the Coast Guard has not identified any costs associated with complying with the proposed rule.

Table 2—Assessment of Cost Impacts of the Proposed Rule
Description of change | Type of change | Cost impact
Subpart A—General
§ 69.1 Purpose
Eliminates the disparate treatment of documented and undocumented U.S. flag vessels | Mandatory statutory alignment | No cost. Consistent with policy in effect since 1993 (NVIC 11-93).
Expands the explanation of the use of tonnage to include environmental and security purposes | Administrative: Clarification on tonnage usage | No cost.
Relocates the descriptions of each measurement system to the corresponding definitions in § 69.9 | Administrative: Editorial change to improve usability | No cost.
§ 69.3 Applicability
Expands the scope to apply to foreign flag vessels | Mandatory statutory alignment | No cost. Consistent with Coast Guard practice since the 1986 amendments to the tonnage law.
Removes the 5 net ton minimum size restriction | Administrative: Clarification that statutory requirements for measurement apply to vessels of all sizes | No cost. Consistent with policy in effect since 1993 (NVIC 11-93).
§ 69.5 Vessels required or eligible to be measured
Deletes section to align with proposed revised § 69.3 | Administrative: Editorial realignment | No cost.
§ 69.7 Vessels transiting the Panama and Suez Canals
Deletes requirement for vessels transiting the Panama and Suez Canals to be measured under the respective Panama and Suez Canal measurement systems | Administrative: Update to reflect lack of Coast Guard responsibility for canal measurements, consistent with statutory changes | No cost.
§ 69.9 Definitions
Adds definitions for tonnage measurement terms | Administrative: New definitions | No cost.
Revises definitions for tonnage measurement terms | Administrative: Clarifications and updates | No cost.
Changes term “vessel engaged on a foreign voyage” | Mandatory statutory alignment | No cost. Consistent with current practice.
§ 69.11 Determining the measurement system or systems for a particular vessel
Eliminates the disparate treatment of documented and undocumented U.S. flag vessels | Mandatory statutory alignment | No cost. Consistent with policy in effect since 1993 (NVIC 11-93).
Precludes certain foreign flag vessels of 79 ft or more in length from being measured under the Regulatory Measurement System | Mandatory statutory alignment | No cost. Not retroactive. No such foreign vessels have been brought into service using the regulatory measurement system in recent years.
Relocates “how tonnage thresholds are applied” language to proposed § 69.20 | Administrative: Editorial change | No cost.
§ 69.13 Deviating from the provisions of a measurement system
Requires authorized measurement organizations to observe Coast Guard's interpretations of tonnage laws and regulations | Administrative: Clarifies extent of measurement organization authority | No cost. Consistent with written agreements with measurement organizations, and policy in effect since 1998 (see MTN 01-98 and MTN 01-99).
Identifies that Coast Guard interpretations may be obtained from the Marine Safety Center | Administrative: Facilitates public access to interpretive documents | No cost.
Allows grandfathering of superseded tonnage measurement rules | Administrative: Facilitates transition to codified interpretations | No cost. Precludes mandatory retroactive application of codified interpretations.
§ 69.15 Authorized measurement organizations
Establishes new nomenclature consistent with proposed revisions to § 69.9 and § 69.11 | Administrative: Editorial change | No cost.
Deletes information that is repeated in the regulations or is available elsewhere | Administrative: Editorial change | No cost.
§ 69.17 Application for measurement services
Identifies that the vessel owner is responsible to apply for vessel measurement or remeasurement | Administrative: Clarification consistent with existing practice | No cost.
Omits reference to boiler installation as indicator of stage of vessel construction | Administrative: Update to reflect decreasing use of steam propulsion | No cost.
§ 69.19 Remeasurement and adjustment of tonnage
Clarifies circumstances under which a vessel must undergo remeasurement | Administrative: Clarification | No cost.
§ 69.20 Applying tonnage thresholds
Provides comprehensive requirements on how tonnage thresholds are to be applied | Administrative: Facilitates public understanding of longstanding statutory requirements | No cost. Consistent with the tonnage measurement law and policy in effect since 1993 (See NVIC 11-93).
§ 69.25 Penalties
Updates civil penalty amounts as per the Federal Civil Penalties Inflation Adjustment Act | Administrative: Update | No cost.
§ 69.27 Delegation of authority to measure vessels
Revises section to reflect the proposed nomenclature in § 69.11 | Administrative: Editorial change | No cost.
Deletes outdated reference to 49 CFR 1.46 | Administrative: Update | No cost.
§ 69.28 Acceptance of measurement by a foreign country
Adds provisions for accepting tonnage assignments for certain foreign flag vessels | Mandatory statutory alignment | No cost. Provides flexibility to use foreign flag tonnages
Subpart B—Convention Measurement System
§ 69.53 Definitions
Adds definition for tonnage measurement term | Administrative: New definitions | No cost.
Revises tonnage measurement terms consistent with proposed revisions to § 69.9 | Administrative: Editorial change | No cost.
§ 69.55 Application for measurement services
Requires the “delivery date” to be specified on a tonnage application instead of the less specific “build date” | Administrative: Clarification | No cost.
§ 69.57 Gross tonnage ITC
Revises nomenclature consistent with proposed revisions to § 69.9 | Administrative: Clarification | No cost.
§ 69.59 Enclosed spaces
Incorporates interpretations on treatment of portable spaces | Codification: Principal interpretation from policy document | No cost. Interpretation in effect since 1999 (NVIC 11-93 CH-2 and MTN 01-99).
§ 69.61 Excluded spaces
Incorporates interpretations on treatment of qualifying spaces as excluded spaces “open to the sea” | Codification: Principal interpretation from policy document | No cost. Interpretation in effect since 1999 (MTN 01-99).
§ 69.63 Net tonnage ITC
Revises nomenclature consistent with proposed revisions to § 69.9 | Administrative: Clarification | No cost.
§ 69.65 Calculation of volumes
Removes language addressing specific calculation methods to ensure that accepted naval architecture practices are used in all cases | Administrative: Clarification | No cost. Reflects increased use of computer-based computational methods
§ 69.69 Tonnage certificates
Incorporates more complete requirements from the 1969 Tonnage Convention for reissuance of an International Tonnage Certificate (1969) under certain circumstances, including the 3-month grace period following flag transfer | Administrative: Clarification | No cost.
Requires issuance of a U.S. Tonnage Certificate as evidence of measurement under the Convention Measurement System under certain circumstances, and that the International Tonnage Certificate (1969) is delivered to the vessel's owner or master | Mandatory statutory alignment | No cost. Consistent with policy in effect since 1998 (MTN 01-98).
§ 69.71 Change of net tonnage
Clarifies that Commandant determines the magnitude of alterations of a major character | Administrative: Clarification | No cost.
§ 69.73 Treatment of unique or otherwise novel type vessels
Revises section title and clarifies that submission of plans and sketches is not required in all cases | Administrative: Clarification | No cost.
§ 69.75 Figures
Updates the existing figures to resolve minor labeling inconsistencies, and for visual clarity | Administrative: Clarifications and updates | No cost.
Subpart C—Standard Regulatory Measurement System
§ 69.101 Purpose
Reflects proposed revised title of Subpart C | Administrative: Clarification | No cost.
§ 69.103 Definitions
Adds definitions for tonnage measurement terms | Administrative: New definitions | No cost.
Revises definitions for tonnage measurement terms | Administrative: Clarifications and updates | No cost.
§ 69.105 Application for measurement services
Requires the “delivery date” to be specified on a tonnage application instead of the less specific “build date” | Administrative: Clarification | No cost.
§ 69.107 Gross and net register tonnages
Revises nomenclature consistent with proposed revisions to § 69.9 | Administrative: Clarification | No cost.
Clarifies that the U.S. Tonnage Certificate reflects measurement for the Convention and Regulatory Measurement Systems, as applicable, and need not be carried aboard | Administrative: Clarification | No cost.
§ 69.108 Uppermost complete deck
Establishes comprehensive requirements related to the “uppermost complete deck” | Codification: Principal interpretations from policy document | No cost. Interpretations in effect since 2003 (MTN 01-99 CH-5).
§ 69.109 Under-deck tonnage
Clarifies that enumerated decks are used to determine the tonnage deck | Administrative: Clarification | No cost.
Establishes how to determine enumerated decks | Codification: Principal interpretation from policy document | No cost. Interpretation in effect since 2003 (MTN 01-99 CH-5).
Replaces the phrase “at different levels from stem to stern” with the more commonly used term “stepped” | Codification: Principal interpretation from policy document | No cost. Interpretation in effect since 2005 (MTN 01-99 CH-7).
Establishes minimum breadth and length criteria for steps used in establishing the line of the tonnage deck | Codification: Principal interpretation from policy document | No cost. Interpretation in effect since 2005 (MTN 01-99 CH-7).
Reflects that the frames evaluated in determining the tonnage length should be “ordinary frames” | Administrative: Clarification | No cost.
Deletes the sentence “when a headblock extendsthickness of an ordinary side frame and shell plating” | Codification: Principal interpretation from policy document | No cost. Interpretation in effect since 2003 (MTN 01-99 CH-5).
Provides for a maximum reduction in the tonnage length of 8½ feet | Codification: Principal interpretation from policy document | No cost. Interpretation in effect since 2003 (MTN 01-99 CH-5).
Requires that the under-deck sections, referred to as “tonnage stations,” be sequentially numbered | Administrative: Clarification | No cost.
Replaces the terms “double bottom” and `cellular double bottom” with “water ballast double bottom” | Administrative: Clarification | No cost.
Deletes the existing language regarding outside shaft tunnel exclusions and inserts new “open to the sea” language | Codification: Principal interpretation from policy document | No cost. Interpretation in effect since 2005 (MTN 01-99 CH-7).
Incorporates the term “uppermost complete deck” | Administrative: Clarification | No cost.
Provides requirements on the measurement treatment of ordinary frames in the under-deck, including construction, frame spacing, different sized frames, frame openings, and asymmetrical framing | Codification: Principal interpretations from policy document | No cost. Interpretations on different sized framing in effect since in effect since 1950 (Treasury Decision 52578). Other interpretations in effect since 2002 (MTN 01-99 CH-4).
§ 69.111 Between-deck tonnage
Replaces the phrase “at different levels from stem to stern” with the more commonly used term “stepped” | Codification: Principal interpretation from policy document | No cost. Interpretation in effect since 2005 (MTN 01-99 CH-7).
Requires a minimum size for a longitudinal step being used as the basis for establishing the line of the uppermost complete deck | Codification: Principal interpretation from policy document | No cost. Interpretation in effect since 2005 (MTN 01-99 CH-7).
Replaces the phrase “face of the normal side frames” with the phrase “line of the normal frames” | Administrative: Clarification | No cost.
§ 69.113 Superstructure tonnage
Incorporates interpretations on treatment of portable spaces | Codification: Principal interpretations from policy document | No cost. Interpretations in effect since 1997 (NVIC 11-93 CH-2).
Clarifies that measurements are to be taken to the “line of the normal frames” | Administrative: Clarification | No cost.
Defines superstructure tonnage as the tonnage of all superstructure spaces | Administrative: Clarification | No cost.
§ 69.115 Excess hatchway tonnage
Revises nomenclature consistent with proposed revisions to § 69.9 | Administrative: Clarification | No cost.
§ 69.117 Spaces exempt from inclusion in tonnage
Revises nomenclature consistent with proposed revisions to § 69.9 | Administrative: Editorial change | No cost.
Amends the definition of passenger space to preclude passenger support spaces and spaces used by both passengers and crew from being exempted as passenger space | Codification: Principal interpretation from policy document | No cost. Interpretation in effect since 2005 (MTN 01-99 CH-7).
Establishes the minimum height above the uppermost complete deck for exemptible passenger spaces | Codification: Principal interpretation from policy document | No cost. Interpretation in effect since 2005 (MTN 01-99 CH-7).
Removes the prohibition of exempting a passenger space as an open space when it has berthing accommodations | Codification: Principal interpretation from policy document | No cost. Interpretation in effect since 2003 (MTN 01-99 CH-5).
Establishes requirements on open structure exemptions for structures divided into compartments | Codification: Principal interpretation from policy document | No cost. Interpretation in effect since 2005 (MTN 01-99 CH-7).
Prohibits the progression of open space vertically between structures and allows a space outside a structure's boundary bulkhead meeting certain conditions to be considered open to the weather | Codification: Principal interpretations from policy document | No cost. Interpretations in effect since 2003 (MTN 01-99 CH-6).
Provides end opening and interior space circulation requirements | Codification: Principal interpretations from policy document | No cost. Interpretations in effect since 2003 (MTN 01-99 CH-6).
Requires compartments from which open space progresses to meet certain opening requirements | Codification: Principal interpretations from policy document | No cost. Interpretations in effect since 2003 (MTN 01-99 CH-6).
Requires temporary cover plates to be fitted against the weather side of a bulkhead in applying open to the weather criteria | Codification: Principal interpretations from policy document | No cost. Interpretations in effect since 2003 (MTN 01-99 CH-6).
Specifies that in applying the size requirements of 69.117(d)(7), an opening need not also meet the size requirements of 69.117(d)(2) | Administrative: Clarification | No cost.
Provides for exemption of space in way of opposite side openings | Codification: Principal interpretations from policy document | No cost. Interpretations in effect since 2003 (MTN 01-99 CH-6).
Replaces the phrase “next lower deck” with the phrase “uppermost complete deck” | Administrative: Clarification | No cost.
Precludes battening, caulking, seals, or gaskets of any material from being used in association with a middle line opening cover | Codification: Principal interpretation from policy document | No cost. Interpretation in effect since 2003 (MTN 01-99 CH-6).
Deletes the requirement to provide calculations in a specific format | Administrative: Update | No cost. Reflects increased use of computer-based computational methods.
Requires use of the zone of influence method to ensure accuracy and consistency in calculating volumes of exempted under-deck spaces | Codification: Principal interpretation from policy document | No cost. Interpretation in effect since 2003 (MTN 01-99 CH-6).
§ 69.119 Spaces deducted from tonnage
Revises nomenclature consistent with proposed revisions to § 69.9 | Administrative: Editorial change | No cost.
§ 69.121 Engine room deduction
Revises nomenclature consistent with proposed revisions to § 69.9 | Administrative: Editorial change | No cost.
§ 69.123 Figures
Updates the existing figures to resolve minor labeling inconsistencies, and for visual clarity | Administrative: Clarifications and updates | No cost.
Subpart D—Dual Regulatory Measurement System
§ 69.151 Purpose
Reflects proposed revised title of Subpart D | Administrative: Clarification | No cost.
Revises nomenclature consistent with proposed revisions to § 69.9 | Administrative: Editorial change | No cost.
§ 69.153 Application of other laws
Revises nomenclature consistent with proposed revisions to § 69.9 | Administrative: Editorial change | No cost.
§ 69.155 Measurement requirements
Deletes references to the “Standard Measurement System” and “Dual Measurement System” | Administrative: Editorial change | No cost.
§ 69.157 Definitions
Revises nomenclature consistent with proposed revisions to § 69.9 | Administrative: Editorial change | No cost.
§ 69.159 Application for measurement services
Deletes reference to the “Standard Measurement System” | Administrative: Editorial change | No cost.
§ 69.161 Gross and net register tonnages
Revises nomenclature consistent with proposed revisions to § 69.9 | Administrative: Editorial change | No cost.
Clarifies that the U.S. Tonnage Certificate reflects measurement for the Convention and Regulatory Measurement Systems, as applicable, and need not be carried aboard | Administrative: Clarification | No cost.
§ 69.163 Under-deck tonnage
Deletes reference to the “Dual Measurement System” | Administrative: Editorial change | No cost.
§ 69.165 Between-deck tonnage
Deletes reference to the “Dual Measurement System” | Administrative: Editorial change | No cost.
§ 69.167 Superstructure tonnage
Deletes reference to the “Dual Measurement System” | Administrative: Editorial change | No cost.
§ 69.169 Spaces exempt from inclusion tonnage
Revises nomenclature consistent with proposed revisions to § 69.9 | Administrative: Editorial change | No cost.
§ 69.173 Tonnage assignments for vessels with only one deck
Revises nomenclature consistent with proposed revisions to § 69.9 | Administrative: Editorial change | No cost.
§ 69.175 Tonnage assignments for vessels with a second deck
Revises nomenclature consistent with proposed revisions to § 69.9 | Administrative: Editorial change | No cost.
Clarifies that the vessel owner may elect to use the lower set of tonnages when opting for single tonnage assignment under the Dual Measurement System | Administrative: Clarification | No cost.
Requires a load line to be assigned at a level below the line of the second deck | Codification: Principal interpretation from policy document | No cost. Interpretation in effect since 2003 (MTN 01-99 CH-5).
§ 69.177 Markings
Revises nomenclature consistent with proposed revisions to § 69.9 | Administrative: Editorial change | No cost.
Adds exception to allow the line of the second deck to be marked on the side of the vessel if the second deck is the actual freeboard deck for purposes of load line assignment | Codification: Principal interpretation from policy document | No cost. Interpretation in effect since 2003 (MTN 01-99 CH-5).
§ 69.181 Locating the line of the second deck
Updates the existing examples for visual clarity | Administrative: Clarifications and updates | No cost.
§ 69.183 Figures
Updates the existing figures to resolve minor labeling inconsistencies, and for visual clarity | Administrative: Clarifications and updates | No cost.
Subpart E—Simplified Regulatory Measurement System
§ 69.201 Purpose
Reflects proposed revised title of Subpart E | Administrative: Clarification | No cost.
§ 69.205 Application for measurement services
Specifies how vessel owners not seeking documentation should process an application for simplified measurement | Administrative: Clarification | No cost. Provides additional guidance.
Specifies that a completed application for simplified measurement serves as evidence of measurement under the Simplified system | Administrative: Clarification | No cost.
Specifies the vessel information required to be provided by the owner when completing the Application for Simplified Measurement | Administrative: Clarification | No cost.
Deletes reference to a specific section of the Builders Certificate and First Transfer of Title form (CG-1261) to allow for revisions to this form without the need to revise regulations | Administrative: Removes unneeded requirement from the regulations | No cost.
§ 69.207 Measurements
Relaxed measurement tolerances consistent with current practice | Administrative: Update | No cost—matches existing practice.
§ 69.209 Gross and net register tonnage
Revises nomenclature consistent with proposed revisions to § 69.9 | Administrative: Editorial change | No cost.
Specifies that a vessel's Certificate of Documentation serves as evidence of measurement under the Simplified system | Administrative: Clarification | No cost.
§ 69.211 Treatment of unique or otherwise novel type vessels
Identifies the Coast Guard office to contact for questions on a vessel for which the simplified measurement rules may not readily be applied | Administrative: Facilitates resolutions of questions from public | No cost.

Benefits

Part 69 Subpart A (Sections 69.1-69.29):

The revisions to 46 CFR part 69 subpart A would clarify and update general tonnage measurement requirements, consistent with the changes mandated by the 2010 Coast Guard Authorization Act, and codify certain interpretations affecting vessels measured under the four U.S. measurement systems. These changes are expected to benefit the public through increased regulatory clarity and by adding flexibility to use foreign flag tonnages.

Part 69 Subparts B, C and D (Sections 69.51-69.183):

The proposed revisions to 46 CFR part 69 subparts B, C, and D would clarify and update tonnage measurement requirements, and codify principal interpretations of the tonnage technical rules. These changes are expected to benefit the public through increased regulatory clarity and by facilitating understanding of the tonnage measurement regulations, which could help avert costs and delays associated with bringing vessels into regulatory compliance.

Part 69 Subpart E (Sections 69.201-69.209):

The proposed revisions to 46 CFR part 69 subpart E would clarify and update tonnage measurement requirements, and are expected to benefit the public through increased regulatory clarity.

Table 3 summarizes the benefits of the proposed rule.

Table 3—Summary of Benefits
Requirement | Benefit
Part 69 Subpart A (Sections 69.1-69.29) | • Clarifies tonnage measurement requirements.
Part 69 Subparts B, C and D (Sections 69.51-69.183) | • Clarifies tonnage measurement requirements. • Facilitates the understanding of tonnage measurement requirements to allow more effective and efficient tonnage certifications
Part 69 Subpart E (Sections 69.201-69.209) | • Clarifies tonnage measurement requirements.

Alternatives

The Coast Guard concluded that some changes to the existing tonnage regulations are required to implement changes to the tonnage measurement law made by the 2010 Coast Guard Authorization Act. Based on the preceding discussion, we further concluded that the additional changes to the tonnage regulations described above could provide a net benefit to the public, and should also be made.

In arriving at these conclusions, the Coast Guard considered two alternatives to the proposed approach in order to maximize net benefits (including potential economic, environmental, public health and safety effects, distributive impacts, and equity). Table 4 summarizes these three alternative approaches, including the costs and benefits. A brief description of the alternatives that were not adopted follows the table.

Table 4—Description of Regulatory Alternatives
Alternative | Description | Costs and benefits
Proposed Approach | Revise regulations to: —Reflect statutory changes; —Codify principal interpretations; —Include administrative changes. | —No cost. —Clarifies requirements. —Adds flexibility to use foreign flag tonnages. —Facilitates understanding of regulations.
Alternative 1 | Revise regulations to: —Reflect statutory changes; —Codify all interpretations; —Include administrative changes. | —Reduces flexibility in applying regulations. —Clarifies requirements. —Adds flexibility to use foreign flag tonnages. —Facilitates understanding of regulations. —No costs short run, but in the long-run we anticipate that the new regulations would be too detailed and lead to compliance difficulties.
Alternative 2 | Revise regulations to: —Reflect statutory changes. | —No cost. —Adds flexibility to use foreign flag tonnages. —No enhanced understanding of tonnage regulations with increased compliance challenges/costs.

Alternative 1—Codify All Interpretations

Alternative 1 would revise the tonnage regulations to incorporate not only the changes and principal interpretations of the proposed alternative, but to also include all published Coast Guard interpretations. This would consolidate all tonnage interpretative information into one source. Unlike the proposed alternative, Alternative 1 would induce an additional cost and burden to both industry and government due to a lack of flexibility in applying regulations.

Initially, we believed this alternative, when compared to the current situation of a regulation not reflective of published interpretations, would produce some additional benefit due to the increased visibility of both the principal and secondary interpretations. We concluded that, over time, new technologies and vessel construction practices would lead to difficulties in complying with an overly detailed regulation. This would likely lead to additional requests for clarifications and interpretations and additional rulemakings, potentially causing tonnage certification delays and negatively impact design innovations. Based on these considerations, we did not accept Alternative 1.

Alternative 2—Incorporate Only Mandatory Changes

Alternative 2 would amend the tonnage regulations to only incorporate changes that reflect the tonnage technical amendments of the 2010 Coast Guard Authorization Act, while continuing the Coast Guard's practice of communicating tonnage regulation interpretations to industry via policy documents. This would sustain the Coast Guard's current flexibility in applying tonnage measurement interpretations and preclude additional costs to industry. However, it would not clarify tonnage measurement requirements or increase the understanding of the tonnage measurement regulations. Based on this consideration, we did not accept Alternative 2.

B. Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

Our economic analysis concludes that this proposed rule would have no cost impact and would not affect the small entities described above.

Business entities are categorized by the North American Industry Classification System (NAICS) codes.² We identified the NAICS codes for the population affected by the proposed rule. Table 5 presents these NAICS codes, their descriptions, and their SBA size criteria.

² Small business information can be accessed online at http://www.sba.gov/size/indextableofsize.html.

Table 5—NAICS Codes With SBA Threshold
NAICS Code | NAICS Description | SBA Small entity threshold
11411 | Fishing | $4,00,000 revenue.
483111 | Deep sea freight transportation | 500 employees.
483112 | Deep sea passenger transportation | 500 employees.
483113 | Coastal and great lakes freight transportation | 500 employees.
483114 | Coastal and great lakes passenger transportation | 500 employees.
483211 | Inland water freight transportation | 500 employees.
483212 | Inland water passenger transportation | 500 employees.
488310 | Port and Harbor Operations | $25,000,000 revenue.
488330 | Navigational Services to Shipping | $7,000,000 revenue.

We estimate that this rule would not impose additional costs and should have no impact on small entities because the Coast Guard has not identified any costs associated with complying with the proposed rule.

Therefore, the Coast Guard certifies under 5 U.S.C. 605(b) that this proposed rule, if promulgated, will not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

C. Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please consult Mr. Marcus Akins, Marine Safety Center, Tonnage Division (MSC-4), Coast Guard; telephone (703) 872-6787 or email Marcus.J.Akins@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for no new collection of information under the Paperwork Reduction Act of 1995 (44 U.S.C. 3501-3520). The current Office of Management and Budget approval number for this part, 1625-0028, remains unchanged and effective.

E. Federalism

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132. Our analysis is explained below.

It is well settled that States may not regulate in fields reserved for regulation by the Coast Guard. Under Title 46, United States Code, Subtitle II, Part J, “Measurement of Vessels,” Congress specifically mandated the Secretary to measure vessels in the manner provided by the statute and the Convention. The authority to carry out these functions was specifically delegated to the Coast Guard by the Secretary. As this proposed rulemaking implements amendments to the tonnage measurement law, as well as incorporates technical interpretations and administrative clarifications of existing tonnage regulations, it falls within the scope of authority Congress granted exclusively to the Secretary and States may not regulate within this field. Therefore, the rule is consistent with the principles of federalism and preemption requirements in Executive Order 13132.

While it is well settled that States may not regulate in categories in which Congress intended the Coast Guard to be the sole source of a vessel's obligations, the Coast Guard recognizes the key role that State and local governments may have in making regulatory determinations. Additionally, for rules with implications and preemptive effect, Executive Order 13132 specifically directs agencies to consult with State and local governments during the rulemaking process.

Therefore, the Coast Guard invites State and local governments and their representative national organizations to indicate their desire for participation and consultation in this rulemaking process by submitting comments to this NPRM. In accordance with Executive Order 13132, the Coast Guard will provide a federalism impact statement to document: (1) The extent of the Coast Guard's consultation with State and local officials who submit comments to this proposed rule; (2) a summary of the nature of any concerns raised by State or local governments and the Coast Guard's position thereon; and (3) a statement of the extent to which the concerns of State and local officials have been met. We will also report to the Office of Management and Budget any written communications with the States.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

G. Taking of Private Property

This proposed rule would not cause a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

M. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under the “Public Participation and Request for Comments” section of this preamble. This action falls under section 2.B.2, figure 2-1, paragraph (34)(a) and (d) of the Instruction and involves regulations which are editorial or procedural and regulations concerning [follow lit]admeasurement[/follow lit] of vessels. We seek any comments or information that may lead to the discovery of a significant environmental impact from this proposed rule.

List of Subjects in 46 CFR Part 69

Measurement standards, Penalties, Reporting and recordkeeping requirements, Vessels.

For the reasons discussed in the preamble, the Coast Guard proposes to amend 46 CFR part 69 as follows:

Title 46

PART 69—MEASUREMENT OF VESSELS

Subpart A—General

1. The authority citation for part 69 continues to read as follows:

Authority: 46 U.S.C. 2301, 14103; Department of Homeland Security Delegation No. 0170.1.

2. Revise § 69.1 to read as follows:

§ 69.1 Purpose.

This part implements legislation concerning the measurement of vessels to determine their tonnage (part J of 46 U.S.C. subtitle II). Tonnage is used for a variety of purposes, including the application of vessel safety, security, and environmental protection regulations and the assessment of taxes and fees. This part indicates the particular measurement system or systems under which the vessel is required or eligible to be measured, describes the measurement rules and procedures for each system, identifies the organizations authorized to measure vessels under this part, and provides for the appeal of measurement organizations' decisions.

3. Revise § 69.3 to read as follows:

§ 69.3 Applicability.

This part applies to any vessel for which the application of an international agreement or other law of the United States to the vessel depends on the vessel's tonnage.

§ 69.5 [Removed and Reserved]

4. Remove and reserve § 69.5.

5. Revise § 69.7 to read as follows:

§ 69.7 Vessels transiting the Panama and Suez Canals.

For vessels that will transit the Panama Canal and/or Suez Canal, the respective canal authorities may require special tonnage certificates in addition to those issued under this part. These special certificates may be issued by measurement organizations who have received appropriate authorization from the respective canal authorities.

6. Revise § 69.9 to read as follows:

§ 69.9 Definitions.

As used in this part—

Authorized measurement organization means an entity that is authorized to measure vessels under this part.

Commandant means Commandant of the Coast Guard at the following address: Commanding Officer, Marine Safety Center (MSC-4), US Coast Guard Stop 7410, 4200 Wilson Boulevard, Suite 400, Arlington, VA 20598-7410

Convention means the International Convention on Tonnage Measurement of Ships, 1969.

Convention Measurement System means the measurement system under subpart B of this part, which is based on the rules of the Convention. It uses the vessel's total enclosed volume as the principal input for tonnage calculations along with other characteristics related to the vessel's carrying capacity, including the volume of cargo spaces and number of passengers. Tonnages assigned under this system are expressed in terms of gross tonnage ITC (GT ITC) or net tonnage ITC (NT ITC).

Deck cargo means freight carried on the weather decks of a vessel for the purpose of its transport between two separate and distinct locations, and which is off-loaded from the vessel in its original container (if applicable) without undergoing any processing or other use while onboard the vessel.

Dual Regulatory Measurement System means the measurement system of subpart D of this part, which is one of three sub-systems of the Regulatory Measurement System. It is based on the rules of the Standard Measurement System, with adjustments that allow for the assignment of two sets of Regulatory Measurement System tonnages whose use depends on the loading condition of the vessel. Tonnages assigned under this system are expressed in terms of gross register tons (GRT) or net register tons (NRT).

Foreign flag vessel means a vessel that is not a U.S. flag vessel.

Great Lakes means the Great Lakes of North America and the St. Lawrence River west of a rhumb line drawn from Cap des Rosiers to West Point, Anticosti Island, and, on the north side of Anticosti Island, the meridian of longitude 63 degrees west.

Gross register tonnage (GRT) means the gross tonnage measurement of the vessel under the Regulatory Measurement System. Refer to § 69.20 of this subpart for information on applying tonnage thresholds expressed in terms of gross register tons (also referred to as GRT).

Gross tonnage ITC (GT ITC) means the gross tonnage measurement of the vessel under the Convention Measurement System (subpart B of this part). In international conventions, this parameter may be referred to as “gross tonnage (GT)”. Refer to § 69.20 of this subpart for information on applying tonnage thresholds expressed in terms of gross tonnage ITC.

National Vessel Documentation Center means the organizational unit designated by the Commandant to process vessel documentation transactions and maintain vessel documentation records.

Net register tonnage (NRT) means the net tonnage measurement of the vessel under the Regulatory Measurement System. Refer to § 69.20 of this subpart for information on applying tonnage thresholds expressed in terms of net register tons.

Non-self-propelled vessel means a vessel that is not a self-propelled vessel.

Overall length means the horizontal distance of the vessel's hull between the foremost part of a vessel's stem to the aftermost part of its stern, excluding fittings and attachments.

Portable enclosed space means an enclosed space that is not deck cargo, and whose method of attachment to the vessel is not permanent in nature. Examples of portable enclosed spaces include modular living quarters, housed portable machinery spaces, and deck tanks used in support of shipboard industrial processes.

Register ton means a unit of volume equal to 100 cubic feet.

Regulatory Measurement System means the measurement system that comprises subparts C, D, and E of this part (Standard, Dual, and Simplified Regulatory Measurement Systems, respectively), and is sometimes referred to as the national measurement system of the United States. Tonnages assigned under this system are expressed in terms of gross register tons (GRT) or net register tons (NRT).

Remeasurement means the process by which tonnages and registered dimensions of a vessel that was previously measured are reassigned to that vessel, or are verified to be correct, as appropriate.

Self-propelled vessel means a vessel with means of self-propulsion, including sails.

Simplified Regulatory Measurement System means the measurement system of subpart E of this part, which is one of three sub-systems of the Regulatory Measurement System. It is based on the rules of the Standard Measurement System but employs a simplified computational method using hull dimensions as the principal inputs. Tonnages assigned under this system are expressed in terms of gross register tons (GRT) or net register tons (NRT).

Standard Regulatory Measurement System means the measurement system of subpart C of this part, which is one of three sub-systems of the Regulatory Measurement System. It is based on the rules of the British Merchant Shipping Act of 1854 and uses volumes of internal spaces as the principal inputs for tonnage calculations, allowing for exemptions or deductions of qualifying spaces according to their location and use. Tonnages assigned under this system are expressed in terms of gross register tons (GRT) or net register tons (NRT).

Tonnage means the volume of a vessel's spaces, including portable enclosed spaces, as calculated under a measurement system in this part, and is categorized as either gross or net. Gross tonnage refers to the volumetric measure of the overall size of a vessel. Net tonnage refers to the volumetric measure of the useful capacity of the vessel. Deck cargo is not included in tonnage.

Tonnage threshold means a delimitating tonnage value specified in an international convention or a Federal statute or regulation.

U.S. flag vessel means a vessel of United States registry or nationality, or one operated under the authority of the United States.

Vessel of war means “vessel of war” as defined in 46 U.S.C. 2101.

Vessel that engages on a foreign voyage means a vessel—

(1) That arrives at a place under the jurisdiction of the United States from a place in a foreign country;

(2) That makes a voyage between places outside of the United States;

(3) That departs from a place under the jurisdiction of the United States for a place in a foreign country; or

(4) That makes a voyage between a place within a territory or possession of the United States and another place under the jurisdiction of the United States not within that territory or possession.

7. Revise § 69.11 to read as follows:

§ 69.11 Determining the measurement system or systems for a particular vessel.

(a) Convention Measurement System (subpart B). (1) Except as otherwise provided in this section, this system applies to any vessel for which the application of an international agreement or other law of the United States to the vessel depends on the vessel's tonnage.

(2) This system does not apply to the following vessels:

(i) A vessel of war unless the government of the country to which the vessel belongs elects to measure the vessel under this chapter.

(ii) A vessel of less than 79 feet in overall length.

(iii) A U.S. flag vessel, or one of Canadian registry or nationality, or operated under the authority of Canada, and that is operating only on the Great Lakes, unless the vessel owner requests.

(iv) A U.S. flag vessel, the keel of which was laid or was at a similar stage of construction before January 1, 1986, unless the vessel owner requests or unless the vessel subsequently undergoes a change that the Commandant finds substantially affects the gross tonnage.

(v) A non-self-propelled U.S. flag vessel (except a non-self-propelled vessel that engages on a foreign voyage) unless the vessel owner requests the application.

(b) Standard Regulatory Measurement System (subpart C). This system applies to a vessel not measured under the Convention Measurement System for which the application of an international agreement or other law of the United States to the vessel depends on the vessel's tonnage. Upon request of the vessel owner, this system also applies to a U.S. flag vessel that is also measured under the Convention Measurement System.

(c) Dual Regulatory Measurement System (subpart D). This system may be applied, at the vessel owner's option, instead of the Standard Regulatory Measurement System.

(d) Simplified Regulatory Measurement System (subpart E). This system may be applied, at the vessel owner's option, instead of the Standard Regulatory Measurement System to the following vessels:

(1) A vessel that is under 79 feet in overall length.

(2) A vessel of any length that is non-self-propelled and does not engage on foreign voyages.

(3) A vessel of any length that is operated only for pleasure and operated only on the Great Lakes.

8. Revise § 69.13 to read as follows:

§ 69.13 Applying provisions of a measurement system.

(a) Except as noted under paragraph (c) of this section, all provisions of a measurement system as prescribed in this part that are applicable to the vessel, along with associated interpretations of the Coast Guard, must be observed. These Coast Guard interpretations are published by, and may be obtained from, Commanding Officer, Marine Safety Center (MSC-4).

(b) The provisions of more than one measurement system must not be applied interchangeably or combined, except where specifically authorized under this part.

(c) Unless otherwise provided for by law, the tonnage measurement rules and procedures that immediately predate the rules and procedures prescribed in this part may be applied, at the option of the vessel owner, to the following vessels:

(1) A vessel which has not been measured and which was contracted for on or before (effective date of this rule).

(2) A vessel which has been measured, but which has undergone modifications contracted for on or before (effective date of this rule).

9. Amend § 69.15 as follows:

a. Revise paragraphs (a), (b), (c), and (e) to read as set forth below; and

b. In paragraph (d), remove the words “to determine its tonnage” and add, in their place, the words “under this part”.

§ 69.15 Authorized measurement organizations.

(a) Except as noted under paragraphs (c) and (d) of this section, measurement or remeasurement of all vessels under subparts B, C, or D of this part must be performed by an authorized measurement organization meeting the requirements of § 69.27 of this subpart. A current listing of authorized measurement organizations may be obtained from the Commanding Officer, Marine Safety Center (MSC-4).

(b) Measurement or remeasurement of all vessels under subpart E of this part must be performed by the Coast Guard.

(c) Measurement or remeasurement of all U.S. Coast Guard vessels and all U.S. Navy vessels of war must be performed by the Coast Guard.

* * * * *

(e) The appropriate tonnage certificate, as provided for under this part, is issued by the authorized measurement organization as evidence of the vessel's measurement under this part.

10. Amend § 69.17 as follows:

a. Revise paragraph (a) to read as set out below; and

b. In paragraph (c), remove the words “engine and boilers” and add, in their place, the word “engines”.

§ 69.17 Application for measurement services.

(a) The vessel owner is responsible for having the vessel measured or remeasured under this part. Applications for measurement services are available from and, once completed, are submitted to the authorized measurement organization that will perform the measurement services. The contents of the application are described in this part under the requirements for each system.

* * * * *

11. Revise paragraphs (a), (b), and (c) of § 69.19 to read as follows:

§ 69.19 Remeasurement.

(a) If a vessel that is already measured is to undergo a structural alteration, a change to its service, or if the use of its space is to be changed, a remeasurement may be required. Vessel owners shall report immediately to an authorized measurement organization any intent to structurally alter the vessel or to change its service or the use of its space. The organization advises the owner if remeasurement is necessary. Remeasurement is initiated by completing and submitting, where applicable, the appropriate application for measurement services. Spaces not affected by the alteration or change need not be remeasured.

(b) Remeasurement must also be performed as follows:

(1) When there is a perceived error in the application of this part, the vessel owner should contact the responsible measurement organization. Remeasurement is performed to the extent necessary to verify and correct the error.

(2) At the vessel owner's option, to reflect the latest tonnage measurement rules and associated interpretations under this part.

(c) If a remeasurement or adjustment of tonnage is required, the organization will issue a new tonnage certificate.

* * * * *

12. Add § 69.20 to read as follows:

§ 69.20 Applying tonnage thresholds.

(a) General. Tonnage thresholds are applied using the vessel's tonnage assigned under this part, and as provided for by paragraphs (b) through (d) of this section. In general, and except as under paragraphs (b) and (c) of this section, tonnage thresholds expressed in terms of “gross tonnage,” “gross tonnage ITC,” or “GT ITC” are applied using Convention Measurement System tonnage (if assigned) and thresholds expressed in terms of “gross tons,” “registered gross tons,” or “GRT” are applied using the Regulatory Measurement System tonnage (if assigned). Similarly, in general, and except as under paragraphs (b) and (c) of this section, tonnage thresholds expressed in terms of “net tonnage,” “net tonnage ITC,” or “NT ITC” are applied using Convention Measurement System tonnage (if assigned) and thresholds expressed in terms of “net tons,” “registered net tons,” or “NRT” are applied using the Regulatory Measurement System tonnage (if assigned).

(b) International Conventions. Unless otherwise provided for by law, apply tonnage thresholds in international conventions as follows:

(1) For vessels measured under the Convention Measurement System, apply all tonnage thresholds using Convention Measurement System tonnage, except as provided for under the following international tonnage grandfathering provisions, which may be applied at the option of the vessel owner:

(i) Article 3(2)(d) of the Convention.

(A) For a U.S. flag vessel, this Article allows associated tonnage thresholds in effect on or before July 18, 1994 to be applied, at the vessel owner's option, using Regulatory Measurement System tonnage, to a vessel whose keel was laid on or before July 18, 1982, and which did not subsequently undergo alterations resulting in a change in its tonnage of a magnitude deemed by the Commandant to constitute a substantial variation in its tonnage.

(B) For a foreign flag vessel, this Article allows associated tonnage thresholds in effect on or before July 18, 1994, to be applied, at the vessel owner's option, using the foreign country's national measurement system tonnage to a vessel whose keel was laid on or before July 18, 1982, and which did not subsequently undergo alterations resulting in a change in its tonnage of a magnitude deemed by that country to constitute a substantial variation in its tonnage.

(ii) International Maritime Organization (IMO) Resolutions A.494 (XII) of November 19, 1981 and A.541 (XIII) of November 17, 1983.

(A) For a U.S. flag vessel, these resolutions allow tonnage thresholds in effect on July 18, 1994 to be applied using the gross register tonnage (Regulatory Measurement System), to a vessel whose keel was laid on or after July 18, 1982 but before July 19, 1994, and which did not subsequently undergo alterations resulting in a change substantially affecting its tonnage as deemed by the Commandant.

(B) For a foreign flag vessel, these resolutions allow tonnage thresholds in effect on July 18, 1994 to be applied, at the vessel owner's option, using the foreign country's national measurement system tonnage, to a vessel whose keel was laid on or after July 18, 1982, but on or before July 18, 1994, and which did not undergo alterations after July 18, 1994 of a magnitude deemed by that country to constitute a substantial variation in its tonnage subject to the provisions of these resolutions.

(iii) Any other international grandfathering provisions as authorized under appropriate International Maritime Organization instruments to which the United States is a party, or which are otherwise recognized or accepted by the United States.

(2) For all other vessels, apply all tonnage thresholds using Regulatory Measurement System tonnage.

(c) Federal Statutes and Regulations. Unless otherwise provided for by law, apply tonnage thresholds in Federal statutes and regulations as follows:

(1) For vessels measured under the Convention Measurement System only, apply all thresholds using Convention Measurement System tonnage.

(2) For vessels measured under the Regulatory Measurement System only, apply all thresholds using Regulatory Measurement System tonnage.

(3) For all other vessels, apply thresholds in effect before July 19, 1994 using the vessel's Regulatory Measurement System tonnage, and all other thresholds using the vessel's Convention Measurement System tonnage.

(d) Alternate Tonnage.

(1) Alternate tonnage is a regulatory framework established by Public Law 104-324, which authorizes the Coast Guard to establish tonnage thresholds based on the Convention Measurement System as an alternative to tonnage thresholds based on the Regulatory Measurement System. Although Public Law 104-324 addresses only thresholds in Federal statutes, it does not preclude establishing alternate tonnage thresholds for Federal regulations that currently specify thresholds that were based on the Regulatory Measurement System, where appropriate.

(2) A vessel regulated to an alternate tonnage threshold established under this part must not be measured under the Regulatory Measurement System.

§ 69.25 [Amended]

13. Amend § 69.25 as follows:

a. In paragraph (a), after the words “General violation. The”, add the word “vessel”; and

b. In paragraphs (a) and (b), remove the figure “$20,000”, and add, in its place, the figure “$30,000”.

14. Amend § 69.27 as follows:

a. Revise paragraphs (a), (b) introductory text, (b)(4), and (b)(5) to read as follows; and

b. In paragraphs (c)(3) and (c)(4), remove the words “Convention, Standard, and Dual Measurement Systems” and add, in their place, the words “subparts B, C, or D of this part”.

§ 69.27 Delegation of authority to measure vessels.

(a) Under 46 U.S.C. 14103, the Coast Guard is authorized to delegate to a “qualified person” the authority to measure and certify U.S. flag vessels under this part.

(b) Authority to measure and certify U.S. flag vessels under the Convention Measurement System and Standard and Dual Regulatory Measurement Systems may be delegated to an organization that:

* * * * *

(4) Is capable of providing all measurement services under subparts B, C, or D of this part for vessels domestically and internationally;

(5) Maintains a tonnage measurement staff that has practical experience in measuring U.S. flag vessels under subparts B, C, or D of this part; and

* * * * *

15. Add § 69.28 to read as follows:

§ 69.28 Acceptance of measurement by a foreign country.

(a) The Commandant must accept the measurement of a foreign flag vessel by a foreign country as complying with subpart B of this part if—

(1) The vessel was measured under the terms of the Convention and the foreign country is party to the Convention; or

(2) The Commandant finds that the laws and regulations of that country related to measurement are similar to those of subpart B of this part.

(b) The Commandant may accept the measurement of a foreign flag vessel by a foreign country as complying with subpart C, D, or E of this part if the Commandant finds that the laws and regulations of that country related to measurement are substantially similar to those of subpart C, D, or E, respectively, of this part.

Subpart B—Convention Measurement System

16. Amend § 69.53 by removing the definitions of “Gross tonnage” and “Net tonnage” and by adding the definition of “Boundary bulkhead” to read as follows:

§ 69.53 Definitions.

* * * * *

Boundary bulkhead means the bulkhead or partition that separates an enclosed interior space from the surrounding weather. In general, the exterior bulkhead of a deck structure is the boundary bulkhead.

* * * * *

§ 69.55 [Amended]

17. Amend § 69.55 paragraph (d) by removing the words “and year” and by adding, after the word “built”, the words “and delivery date (or scheduled delivery date)”.

§ 69.57 [Amended]

18. Amend § 69.57 as follows:

a. In the section heading, add the word “ITC” after the words “Gross tonnage”; and

b. After the words “Gross tonnage” and the text “GT”, wherever they appear, add the word “ITC”.

§ 69.59 [Amended]

19. In § 69.59, at the end of the section, add a sentence to read as follows:

§ 69.59 Enclosed spaces.

* * * Portable enclosed spaces, regardless of method of attachment to the vessel, are treated as enclosed spaces as defined in this section.

20. Amend § 69.61 as follows:

a. Revise paragraph (a) to read as set out below; and

b. In paragraph (g), remove the words “paragraphs (b) through (f)” and add, in their place, the words “paragraphs (a) through (f)”.

§ 69.61 Excluded spaces.

(a) Excluded space means an enclosed space which is excluded from the total volume of all enclosed spaces (V) in calculating gross tonnage ITC. Spaces that are below the upper deck and open to the sea, as well as those spaces listed in paragraphs (b) through (f) of this section, are excluded spaces, except as under paragraph (g) of this section.

* * * * *

§ 69.63 [Amended]

21. Amend § 69.63 as follows:

a. In the section heading, add the word “ITC” after the words “Net tonnage”; and

b. After the words “net tonnage”, “gross tonnage”, “GT”, and “NT”, wherever they appear, add the word “ITC”.

22. Revise § 69.65 to read as follows:

§ 69.65 Calculation of volumes.

(a) Volumes V and Vc used in calculating gross tonnage ITC and net tonnage ITC, respectively, must be measured and calculated according to accepted naval architectural practices for the spaces concerned.

(b) Measurements must be taken, regardless of the fitting of insulation or the like, to the inner side of the shell or structural boundary plating in vessels constructed of metal, and to the outer surface of the shell or to the inner side of structural boundary surfaces in all other vessels.

23. Revise § 69.69 to read as follows:

§ 69.69 Tonnage certificates.

(a) On request of the vessel owner, the authorized measurement organization must issue an International Tonnage Certificate (1969) as evidence of the vessel's measurement under this subpart for a vessel that is 24 meters (79.0 feet) or more in registered length, will engage on a foreign voyage, and is not a vessel of war. The Certificate is delivered to the vessel owner or master and must be maintained on board the vessel when it is engaged on a foreign voyage. For a vessel for which a remeasurement under § 69.71 of this subpart resulted in a net tonnage ITC decrease due to changes other than alterations or modifications to the vessel deemed by the Commandant to be of a major character, an International Tonnage Certificate (1969) reflecting the decreased net tonnage ITC will not be reissued until 12 months have elapsed from the date of measurement indicated on the current certificate.

(b) If an International Tonnage Certificate (1969) is not issued for a vessel measured under this part, the measurement organization must issue a U.S. Tonnage Certificate as evidence of the vessel's measurement under this subpart, which must also indicate the vessel's measurement under any other subpart of this part. There is no requirement to maintain the U.S. Tonnage Certificate on board the vessel.

(c) For a vessel that transfers flag to a foreign country that is party to the Convention, the International Tonnage Certificate (1969) remains valid for a period not to exceed 3 months after the flag transfer, or until an International Tonnage Certificate (1969) is issued under authority of the foreign country to replace it, whichever is earlier.

§ 69.71 [Amended]

24. In § 69.71(c)(2), remove the word “Coast Guard”, and in its place add the word “Commandant”.

25. In § 69.73, revise the section heading and paragraph (b) to read as follows:

§ 69.73 Treatment of novel type vessels.

* * * * *

(b) Requests for a determination must be submitted to the Commandant, explaining the reasons for seeking a determination, and including a description of the spaces in question, if applicable.

26. In § 69.75, revise Figures 1-11 to read as follows:

BILLING CODE 9110-04-P

§ 69.75 Figures.

BILLING CODE 9110-04-C

Subpart C—Standard Regulatory Measurement System

27. Revise the heading for Subpart C to read as shown above.

§ 69.101 [Amended]

28. In § 69.101, after the word “Standard”, add the word “Regulatory”.

29. Amend § 69.103 as follows:

a. In the definition of “Gross tonnage”, after the word “Gross”, add the word “register”;

b. Add, in alphabetical order, the definitions of “Line of the normal frames”, “Line of the ordinary frames”, “Normal frame”, “Ordinary frame”, “Tonnage interval”, “Tonnage station”, “Water ballast double bottom”, and “Zone of influence method” to read as set forth below;

c. In the definition of “Net tonnage”, after the word “Net”, add the word “register”; and

d. Revise the definitions of “Superstructure” and “Uppermost complete deck” to read as set forth below.

§ 69.103 Definitions.

* * * * *

Line of the normal frames means the imaginary horizontal line that connects the inboard faces of the smallest normal frames.

Line of the ordinary frames means the line of intersection of the imaginary surface or surfaces tangent to the inboard faces of the ordinary frames (or the inside of the vessel's skin, if there are no ordinary frames), and the imaginary plane running transversely through the vessel at the tonnage station of interest.

* * * * *

Normal frame means a frame, regardless of size, used to stiffen a structure.

Ordinary frame means a primary side or bottom frame or floor used for strengthening the hull.

* * * * *

Superstructure means all permanently closed-in structures, including all portable enclosed spaces, on or above the line of the uppermost complete deck or, if the vessel has a shelter deck, on or above the line of the shelter deck. Examples of superstructure spaces include forecastles, bridges, poops, deckhouses, breaks, portable tanks, and modular quarters units.

* * * * *

Tonnage interval means the longitudinal distance between transverse sections of a vessel's under-deck, between-deck, or superstructure when divided into an even number of equal parts for purposes of volume integration.

* * * * *

Tonnage station means the longitudinal location of each transverse section where breadth and depth measurements are taken when calculating under-deck volumes under this subpart. Tonnage stations are numbered consecutively from fore to aft, beginning with the number one.

Uppermost complete deck is defined in § 69.108 of this subpart.

Water ballast double bottom means a space at the bottom of a vessel between the inner and outer bottom plating, used solely for water ballast.

Zone of influence method means a Simpson's first rule integration method for determining volumes of under-deck spaces that limits the sectional areas associated with these spaces to the sectional areas at adjacent under-deck tonnage stations, depending on their proximity to those stations. For stations for which the under-deck sectional areas are multiplied by four, the zone of influence extends two-thirds of a tonnage interval on either side of the under-deck station, and for the remaining stations, the zone of influence extends one-third of a tonnage interval on either side of the station.

§ 69.105 [Amended]

30. Amend § 69.105 paragraph (d) by removing the words “and year”, and, after the word “built”, adding the words “and delivery date (or scheduled delivery date)”.

31. Amend § 69.107 as follows:

a. Revise the section heading, paragraph (a) introductory text, and paragraph (b) to read as set forth below; and

b. Add paragraph (c).

§ 69.107 Gross and net register tonnage.

(a) The vessel's gross register tonnage is the sum of the following tonnages, less the tonnages of certain spaces exempt under § 69.117:

* * * * *

(b) The vessel's net register tonnage is the gross register tonnage less deductions under §§ 69.119 and 69.121.

(c) The authorized measurement organization must issue a U.S. Tonnage Certificate as evidence of a vessel's measurement under this subpart, which must also indicate the vessel's measurement under subpart B of this part, if applicable. There is no requirement to maintain the U.S. Tonnage Certificate on board the vessel.

32. Add § 69.108 to read as follows:

§ 69.108 Uppermost complete deck.

(a) Defined. “Uppermost complete deck” means the uppermost deck which extends from stem to stern and from side to side at all points of its length and is bound by the vessel's hull.

(b) Restrictions. The uppermost complete deck must not—

(1) Extend above any space exempted as open space under paragraph (d) of § 69.117;

(2) Extend below the design waterline, except in the case of vessels such as submersibles, where the entire uppermost complete deck is submerged during normal operations; or

(3) Rest directly on consecutive or alternating ordinary bottom frames or floors for a distance of over one-half of the tonnage length.

(c) Deck discontinuities. Decking athwartships of the following deck discontinuities is not considered to be part of the uppermost complete deck:

(1) Through-deck openings that are not protected from the sea and the weather, such as would be provided by hatch covers or a surrounding superstructure that encloses the opening and whose area is more than 10 percent of the total deck area from stem to stern as viewed from above.

(2) Middle line openings conforming to the requirements of § 69.117(e)(2).

(3) Deck recesses that are not through-hull for which the depth of the deck recess at its deepest point is more than 5 feet below adjacent portions of the deck, and whose area (as viewed from above) is more than 10 percent of the total deck area from stem to stern, as viewed from above.

(4) Notches bound by a deck below that wrap around from the ends to the sides of the vessel for which the depth at the deepest point is more than 5 feet below adjacent portions of the deck, the area is more than 1 percent of the total deck area from stem to stern as viewed from above, the length of the notch in the direction of the vessel's longitudinal axis exceeds 10 feet at any point across its width, and the width of the notch in the direction of the vessel's longitudinal axis exceeds 2 feet at any point along its length.

33. Amend § 69.109 as follows:

a. In paragraph (c) after the words “two or less”, “more than two”, and “is the second”, add the word “enumerated”;

b. Revise paragraphs (d), (e)(2), (f)(2), (n), and (o)(1) to read as set forth below;

c. Add paragraphs (f)(4) and (p) to read as set forth below;

d. In paragraph (f)(1), after the words “inboard face of the”, add the word “ordinary”;

e. In paragraph (g)(2), after the words “division of the tonnage length” add the words “, whose location is referred to as a tonnage station, and assigned sequential tonnage station numbers, beginning at the stem”;

f. In paragraph (h)(1) remove the word “cellular” and add, in its place, the words “water ballast”, and in paragraphs (h)(2) and (h)(3), after the words “tank top of a”, add the words “water ballast”;

g. In paragraph (i)(3), after the words “Where there is no”, add the words “water ballast”;

h. In paragraph (i)(4) remove the word “certerline” and add, in its place, the word “centerline”; and

i. In paragraph (m), after the words “six inches in height in its”, add the words “water ballast”.

§ 69.109 Under-deck tonnage.

* * * * *

(d) Enumerating the decks to identify the second deck from the keel. The uppermost complete deck is an enumerated deck. Decks below the uppermost complete deck that extend from stem to stern and side to side at all points along their lengths are also enumerated, provided they are not disqualified by either of the following deck discontinuities:

(1) A through-deck opening that is not fitted with a cover (or equivalent) and whose area is more than 10 percent of the total deck area, as viewed from above.

(2) A deck recess that is not through-hull for which the depth at its deepest point is more than 5 feet below adjacent portions of the deck and whose area as viewed from above is more than 10 percent of the total deck area from stem to stern, as viewed from above.

(e) * * *

(2) If the tonnage deck is stepped, the line of the tonnage deck is the longitudinal line of the underside of the lowest portion of that deck parallel with the upper portions of that deck. Steps that do not extend from side to side or are less than 3 feet in length are ignored when establishing the line of the tonnage deck. (See § 69.123, figures 1 and 2.) Spaces between the line of the tonnage deck and the higher portions of that deck are not included in under-deck tonnage.

(f) * * *

(2) For a vessel having a headblock or square end with framing which extends from the tonnage deck to the bottom of the vessel, the tonnage length terminates on the inboard face of the headblock or ordinary end frames. (See § 69.123, figure 4.)

* * * * *

(4) The forward and after termini of the tonnage length must be a distance of no more than 8½ feet from the associated inboard surface of the skin of the hull at the bow and stern as measured at the centerline of the vessel, and the after terminus must not be forward of the centerline of the rudderstock.

* * * * *

(n) Spaces open to the sea. In calculating the tonnage of spaces below the uppermost complete deck, subtract from each breadth measurement the portion of that measurement that spans a space, or a portion thereof, that is open to the sea.

(o) * * *

(1) An open vessel is a vessel without an uppermost complete deck.

* * * * *

(p) General requirements on ordinary frames.

(1) Construction. An ordinary frame must not be penetrated by an intersecting frame used to strengthen the vessel's hull, except in a vessel of wooden construction. Ordinary frames must be of the same material, or have the same material properties, as the adjacent hull, and attach to the adjacent hull to at least the same extent as adjacent ordinary and normal frames. If comprised of different elements, the elements must be joined to each other to the same extent that the frame is joined to the hull. The frame, or portions thereof, not meeting these requirements must be treated as if not there when establishing the line of the ordinary frames.

(2) Frame spacing and extension. Ordinary frames used to establish the line of the ordinary frames must be spaced on centers that are a maximum of 4 feet apart. These frames must extend for a length of at least one tonnage interval that begins at, ends at, or crosses the associated tonnage station. For a longitudinally-framed vessel, the frames must begin and end at a transverse ordinary frame or at the vessel's hull.

(3) Different sized framing. When an ordinary frame has a different depth of frame than an adjacent ordinary frame, the line of ordinary frames is established using the set of alternating frames that yields the smallest sectional area at the associated tonnage station, with the sectional area based on the frame with the smallest depth of frame in the chosen alternating set.

(4) Frame openings. If an opening in an ordinary frame exceeds an area of 255 square inches (345 square inches in a fuel tank), or is penetrated by a frame other than an ordinary frame, the line of the ordinary frames is established as if the frame material above and inboard of the opening is not there. Similarly, frame material separating adjacent openings that are within the longest linear dimension of either opening must be treated as if not there when establishing the line of the ordinary frames.

(5) Asymmetrical framing. Where ordinary frames are configured such that the line of the ordinary frames would be asymmetrical about the centerline of the vessel, breadth measurements are determined by taking half-breadths on the side of the vessel that yields the greatest sectional area at the associated tonnage station, and multiplying those half-breadths by a factor of two to yield the full breadths.

34. Amend § 69.111 as follows:

a. Revise paragraph (b)(2) to read as set forth below;

b. In paragraph (c)(1), remove the words “inboard face of the normal side frames” and add, in their place, the words “normal frames”; and

c. In paragraph (c)(3), remove the words “between the faces of the normal side frames”; and after the words “of the space”, add the words “to the line of the normal frames”.

§ 69.111 Between-deck tonnage.

* * * * *

(b) * * *

(2) If the uppermost complete deck is stepped, the line of the uppermost complete deck is the longitudinal line of the underside of the lowest portion of that deck parallel with the upper portions of that deck. Steps that do not extend from side to side or are less than 3 feet in length are ignored when establishing the line of the uppermost complete deck. Spaces between the line of the uppermost complete deck and the higher portions of the deck are included in superstructure tonnage.

* * * * *

35. Amend § 69.113 as follows:

a. Revise paragraphs (a) and (b)(1) to read as set forth below;

b. In paragraph (b)(3), after the words “inside breadth”, add the words “to the line of the normal frames”; and

c. In paragraph (f), add a sentence to the end of the paragraph to read as set forth below.

§ 69.113 Superstructure tonnage.

(a) Defined. “Superstructure tonnage” means the tonnage of all superstructure spaces.

(b) * * *

(1) Measure the length of each structure along its centerline at mid-height to the line of the normal frames. (See § 69.123, figure 11.)

* * * * *

(f) * * * All measurements are terminated at the line of the normal frames.

36. Revise § 69.115(c) to read as follows:

§ 69.115 Excess hatchway tonnage.

* * * * *

(c) From the sum of the tonnage of the hatchways under this section, subtract one-half of one percent of the vessel's gross register tonnage exclusive of the hatchway tonnage. The remainder is added as excess hatchway tonnage in calculating the gross register tonnage.

37. Amend § 69.117 as follows:

a. Revise the section heading and paragraphs (c)(3), (d)(1), (d)(2) introductory text, and (d)(2)(i) to read as set forth below;

b. In paragraph (a), remove the word “gross”;

c. Remove paragraphs (c)(4) and (f)(4)(iii);

d. Redesignate paragraphs (f)(4)(iv) through (f)(4)(ix) to (f)(4)(iii) through (f)(4)(viii), respectively;

e. In paragraph (d)(3) introductory text, after the text “(d)(2)(i)”, add the text “, (d)(2)(ii), and”; remove the word “through”; and add as the last sentence, “The following additional requirements apply:”;

f. Add paragraphs (d)(3)(i), (d)(3)(ii), and (d)(8) to read as set forth below;

g. In paragraphs (d)(5)(ii) and (d)(6)(iii), after the words “tightly against the”, add the words “weather side of the”;

h. In paragraph (d)(7), remove the initial word “A”, and add, in its place, the words “Notwithstanding the opening size requirements of paragraph(d)(2) of this section, a”;

i. In paragraph (e) introductory text, remove the words “next lower deck” and add, in their place, the words “uppermost complete deck”;

j. In paragraph (e)(1), remove the words “next lower deck”, and add, in their place, “uppermost complete deck”, and after the words “exempt from”, delete the word “gross”;

k. In paragraph (e)(2)(v), add as the last sentence, “Battening, caulking, seals, or gaskets of any material may not be used in association with any middle line opening cover.”;

l. In paragraph (f) introductory text, remove the word “gross”;

m. In paragraph (f)(4), after the words “to be exempted from”, remove the word “gross”, and after the words “percent of the vessel's gross”, add the word “register”;

n. In paragraph (f)(5), add as the last sentence, “Changes in vessel service must also be reported if a water ballast justification was required to be submitted for the vessel.”; and

o. In paragraph (g)(3), after the words “under-deck was divided”, add the words “, and the zone of influence method must be applied if the ordinary frames upon which the under-deck breadth measurements are based do not have the same depth of frame”.

§ 69.117 Spaces exempt from inclusion in tonnage.

* * * * *

(c) * * *

(3) A passenger space located on, or above the first deck above the uppermost complete deck is exempt from tonnage. To qualify as the first deck above the uppermost complete deck, the deck must be at least 6 inches above the uppermost complete deck at all points along its length.

(d) * * *

(1) Structures that are located on or above the line of the uppermost complete deck that are under cover (sheltered), but open to the weather are exempt from tonnage as open space. The following additional requirements apply:

(i) If a structure is divided into compartments, only those compartments which are open to the weather are exempt from tonnage under the provisions of this section.

(ii) Open space cannot progress vertically through openings in a deck within the structure.

(iii) A space that is outside a structure's boundary bulkhead as defined in § 69.53 is considered open to the weather provided the space is eligible to be treated as an excluded space under the provisions of § 69.61, regardless of whether or not the space is fitted with means designed for securing cargo or stores.

(2) A structure is considered open to the weather when an exterior end bulkhead of the structure is open and, except as provided in paragraphs (d)(4), (d)(5), and (d)(6) of this section, is not fitted with any means of closing. To be considered open to the weather, the end bulkhead must not have a coaming height of more than 2 feet in way of any required opening nor any permanent obstruction within 2½ feet of the opening, it must be fitted with a deck or platform that is a minimum of 2½ feet wide on the exterior side of the opening, and it must have one of the following:

(i) Two openings, each at least 3 feet wide and at least 4 feet high in the clear, one on each side of the centerline of the structure. If the openings lead to two separate interior compartments, there must be circulation of open space between the two compartments via a single such opening, or series of such openings, in the intermediate bulkhead(s).

* * * * *

(3) * * *

(i) For the interior compartment to be considered open to the weather, any compartment or series of compartments from which the open space progresses must have an opening or openings meeting the requirements for end bulkhead openings, except that the opening(s) need not be located in the forward or after end of the compartment.

(ii) Open space may not progress from a space that is open under the provisions of paragraph (d)(1)(iii) of this section unless the space may also be considered open under another provision of this section.

* * * * *

(8) A structure is considered open to the weather if—

(i) Both sides of the structure are open and not fitted with any means of closing other than temporary covers meeting the requirements of paragraphs (d)(4), (d)(5), and (d)(6) of this section;

(ii) The openings are directly across from each other, are not separated by a bulkhead or bulkheads, and do not have any permanent obstruction within 2½ feet of either opening; and

(iii) The openings have a continuous height of at least 3 feet, or the full height of the structure, whichever is less, and either extend the full length of the structure or each have an area of 60 square feet.

* * * * *

§ 69.119 [Amended]

38. Amend § 69.119 as follows:

a. In the section heading and paragraph (a), remove the word “gross”; and

b. In paragraphs (d) and (m), after the word “gross”, add the word “register”.

39. Amend § 69.121 as follows:

a. In paragraphs (a), (b)(2)(vii), (d)(3), (e)(1), (e)(2)(i) through (e)(2)(iii), and (e)(3)(i) through (e)(3)(iii), after the word “gross”, wherever it appears, add the word “register”; and in paragraphs (e)(2)(iii) and (e)(3)(iii), remove the words “vessel's owner” and add, in their place, the words “vessel owner”; and

b. In paragraph (b)(1), remove the word “gross”, wherever it appears; and

c. Revise paragraph (d)(1) to read as follows:

§ 69.121 Engine room deduction.

* * * * *

(d) * * *

(1) Under § 69.117(b)(4), framed-in spaces located above the line of the uppermost complete deck and used for propelling machinery or for admitting light or air to a propelling machinery space are exempt from inclusion in tonnage. However, upon written request to a measurement organization listed in § 69.15, the vessel owner may elect to have these spaces included in calculating the gross register tonnage, then deducted from the gross register tonnage as propelling machinery spaces under paragraph (b)(2)(viii) of this section when calculating the net register tonnage.

40. In § 69.123, revise Figures 1-14 to read as follows:

BILLING CODE 9110-04-P

§ 69.123 Figures.

BILLING CODE 9110-04-C

Subpart D—Dual Regulatory Measurement System

41. Revise the heading of subpart D to read as shown above.

§ 69.151 [Amended]

42. In § 69.151, after the words “one net” and “two net”, add the word “register”, and remove the words “the Dual Measurement System” and add, in their place, the words “this subpart”.

§ 69.153 [Amended]

43. In § 69.153, after the words “two gross” and “higher gross”, add the word “register”.

§ 69.155 [Amended]

44. In § 69.155, remove the words “the Dual Measurement System” and add, in their place, the words “this subpart” and remove the words “the Standard Measurement System in”.

§ 69.157 [Amended]

45. In § 69.157, in the definitions of “Gross tonnage” and “Net tonnage”, before the word “tonnage”, add the word “register”.

§ 69.159 [Amended]

46. In § 69.159, remove the words “for the Standard Measurement System”.

47. Amend § 69.161 as follows:

a. Revise the section heading to read as set forth below;

b. In paragraphs (a) introductory text, (a)(5), and (b), after the word “gross”, add the word “register”;

c. In paragraph (b) after the word “net” add the word “register”; and

d. Add paragraph (c) to read as follows:

§ 69.161 Gross and net register tonnages.

* * * * *

(c) The authorized measurement organization must issue a U.S. Tonnage Certificate as evidence of a vessel's measurement under this subpart, which must also indicate the vessel's measurement under subpart B of this part, if applicable. There is no requirement to maintain the U.S. Tonnage Certificate on board the vessel.

§ 69.163 [Amended]

48. In § 69.163, remove the words “the dual Measurement System” and add, in their place, the words “this subpart”.

§ 69.165 [Amended]

49. In § 69.165, remove the words “the dual Measurement System” and add, in their place, the words “this subpart”.

§ 69.167 [Amended]

50. In § 69.167, remove the words “the dual Measurement System” and add, in their place, the words “this subpart”.

§ 69.169 [Amended]

51. Amend § 69.169 as follows:

a. In the section heading, remove the word “gross”.

b. In § 69.169, remove the word “gross”, wherever it appears.

§ 69.173 [Amended]

52. In § 69.173, before the word “tonnage”, wherever it appears, add the word “register”.

§ 69.175 [Amended]

53. Amend § 69.175 as follows:

a. In paragraph (a), after the words “two net”, add the word “register”; and remove the words “one net tonnage”, and add, in their place, the words “one net register tonnage corresponding to the lower gross and net register tonnages”;

b. In paragraph (b), after the words “two net”, add the word “register”; and

c. In paragraph (c), after the words “low net”, add the word “register”, and after the words “On these vessels,” add the words “a load line must be assigned at a level below the line of the second deck, and”.

§ 69.177 [Amended]

54. Amend § 69.177 as follows:

a. In paragraph (a)(1), remove the words “the Dual Measurement System” and add, in their place, the words “this subpart”;

b. In paragraph (a)(6)(i), after the words “one net”, add the word “register”;

c. In paragraph (c), after the word “two net”, add the word “register”; and

d. In paragraph (d), after the words “side of the vessel” add the words “, except in the case of a freeboard deck line mark placed at the location of the second deck if the second deck is the actual freeboard deck for purposes of a vessel's load line assignment”.

55. In § 69.181, revise Examples (1) and (2) to read as follows:

§ 69.181 Locating the line of the second deck.

* * * * *

BILLING CODE 9110-04-P

56. In § 69.183(a), (b), and (c), revise the images to read as follows:

§ 69.183 Figures.

(a) * * *

(b) * * *

(c) * * *

BILLING CODE 9110-04-C

Subpart E—Simplified Regulatory Measurement System

57. Revise the heading to Subpart E to read as shown above.

§ 69.201 [Amended]

58. In § 69.201, after the word “Simplified” and before the word “Measurement”, add the word “Regulatory”.

59. Revise § 69.205 to read as follows:

§ 69.205 Application for measurement services.

(a) Except as noted under paragraph (c) of this section, to apply for measurement under this subpart, the vessel owner must complete an Application for Simplified Measurement (form CG-5397). If the vessel is documented, or intended to be documented, as a vessel of the United States under part 67 of this chapter, the vessel owner must submit the application form to the National Vessel Documentation Center. Otherwise, the form is not further processed, but may be retained, at the vessel owner's option, as evidence of the tonnage measurement under this part.

(b) The Application for Simplified Measurement (form CG-5397) must include the following information:

(1) Vessel's name and number (e.g., official number, International Maritime Organization (IMO) number, Coast Guard number).

(2) Vessel hull identification number or other number assigned by builder.

(3) Hull material.

(4) Hull shape.

(5) Overall length, breadth, and depth of vessel and each of the vessel's individual hulls.

(6) Location of any propelling machinery (e.g., inside or outside of the hull).

(7) Dimensions of the principal deck structure, if its volume exceeds the volume of the hull.

(c) At the vessel owner's option, a Builder's Certification and First Transfer of Title (form CG-1261) which includes the same information specified in paragraph (b) of this section may be submitted to the National Vessel Documentation Center instead of the Application for Simplified Measurement for a vessel that is documented, or intended to be documented, as a vessel of the United States under part 67 of this chapter.

§ 69.207 [Amended]

60. In § 69.207(a), remove the word “half”; and remove the text “.05” and add, in its place, the word “tenth”.

61. Amend § 69.209 as follows:

a. Revise the section heading to read as set forth below;

b. In paragraph (a), after the word “gross”, wherever it appears, add the word “register”;

c. In paragraphs (b) introductory text, (b)(1)(i), (b)(1)(ii), and (b)(2), after the words “net” and “gross”, wherever they appear, add the word “register”; and

d. Add paragraph (c) to read as follows:

§ 69.209 Gross and net register tonnages.

* * * * *

(c) Certification of measurement. For a vessel that is documented as a vessel of the United States under part 67 of this chapter, the vessel's Certificate of Documentation serves as evidence of measurement under this subpart. For all other vessels, a completed Application for Simplified Measurement (form CG-5397) serves as evidence of the tonnage measurement under this part.

62. Add § 69.211 to read as follows:

§ 69.211 Treatment of novel type vessels.

Refer questions regarding the application of the tonnage measurement rules under this subpart to novel type vessels to the Commandant.

Dated: March 25, 2014.
J.G. Lantz,
Director of Commercial Regulations and Standards, U.S. Coast Guard.

[FR Doc. 2014-07321 Filed 4-7-14; 8:45 am]

BILLING CODE 9110-04-P